DEPARTMENT OF HEALTH AND HUMAN SERVICES

Centers for Medicare & Medicaid Services

[CMS-9028-N]

Medicare and Medicaid Programs; Quarterly Listing of Program Issuances—January Through March 2005

AGENCY: Centers for Medicare & Medicaid Services (CMS), HHS.

ACTION: Notice.

SUMMARY: This notice lists CMS manual instructions, substantive and interpretive regulations, and other Federal Register notices that were published from January 2005 through March 2005, relating to the Medicare and Medicaid programs. This notice provides information on national coverage determinations (NCDs) affecting specific medical and health care services under Medicare. Additionally, this notice identifies certain devices with investigational device exemption (IDE) numbers approved by the Food and Drug Administration (FDA) that potentially may be covered under Medicare. This notice also includes listings of all approval numbers from the Office of Management and Budget for collections of information in CMS regulations. Finally, for the first time, this notice includes a list of Medicare-approved carotid stent facilities.

Section 1871(c) of the Social Security Act requires that we publish a list of Medicare issuances in the Federal Register at least every 3 months. Although we are not mandated to do so by statute, for the sake of completeness of the listing, and to foster more open and transparent collaboration efforts, we are also including all Medicaid issuances and Medicare and Medicaid substantive and interpretive regulations (proposed and final) published during this 3-month time frame.

FOR FURTHER INFORMATION CONTACT: It is possible that an interested party may have a specific information need and not be able to determine from the listed information whether the issuance or regulation would fulfill that need. Consequently, we are providing information contact persons to answer general questions concerning these items. Copies are not available through the contact persons. (See Section III of this notice for how to obtain listed material.)

Questions concerning items in Addendum III may be addressed to Timothy Jennings, Office of Strategic Operations and Regulatory Affairs, Centers for Medicare & Medicaid Services, C4-26-05, 7500 Security Boulevard, Baltimore, MD 21244-1850, or you can call (410) 786-2134.

Questions concerning Medicare NCDs in Addendum V may be addressed to Patricia Brocato-Simons, Office of Clinical Standards and Quality, Centers for Medicare & Medicaid Services, C1-09-06, 7500 Security Boulevard, Baltimore, MD 21244-1850, or you can call (410) 786-0261.

Questions concerning FDA-approved Category B IDE numbers listed in Addendum VI may be addressed to John Manlove, Office of Clinical Standards and Quality, Centers for Medicare & Medicaid Services, S3-26-10, 7500 Security Boulevard, Baltimore, MD 21244-1850, or you can call (410) 786-6877.

Questions concerning approval numbers for collections of information in Addendum VII may be addressed to Jim Wickliffe, Office of Strategic Operations and Regulatory Affairs, Regulations Development and Issuances Group, Centers for Medicare & Medicaid Services, C5-14-03, 7500 Security Boulevard, Baltimore, MD 21244-1850, or you can call (410) 786-4596.

Questions concerning Medicare-approved carotid stent facilities may be addressed to Rana A. Hogarth, Office of Clinical Standards and Quality, Centers for Medicare & Medicaid Services, C1-09-06, 7500 Security Boulevard, Baltimore, MD 21244-1850, or you can call (410) 786-2112; or to Sarah J. McClain, Office of Clinical Standards and Quality, Centers for Medicare & Medicaid Services, C1-09-06, 7500 Security Boulevard, Baltimore, MD 21244-1850, or you can call (410) 786-2994.

Questions concerning all other information may be addressed to Gwendolyn Johnson, Office of Strategic Operations and Regulatory Affairs, Regulations Development Group, Centers for Medicare & Medicaid Services, C5-14-03, 7500 Security Boulevard, Baltimore, MD 21244-1850, or you can call (410) 786-6954.

SUPPLEMENTARY INFORMATION:

I. Program Issuances

The Centers for Medicare & Medicaid Services (CMS) is responsible for administering the Medicare and Medicaid programs. These programs pay for health care and related services for 39 million Medicare beneficiaries and 35 million Medicaid recipients. Administration of the two programs involves (1) furnishing information to Medicare beneficiaries and Medicaid recipients, health care providers, and the public and (2) maintaining effective communications with regional offices, State governments, State Medicaid agencies, State survey agencies, various providers of health care, all Medicare contractors that process claims and pay bills, and others. To implement the various statutes on which the programs are based, we issue regulations under the authority granted to the Secretary of the Department of Health and Human Services under sections 1102, 1871, 1902, and related provisions of the Social Security Act (the Act). We also issue various manuals, memoranda, and statements necessary to administer the programs efficiently.

Section 1871(c)(1) of the Act requires that we publish a list of all Medicare manual instructions, interpretive rules, statements of policy, and guidelines of general applicability not issued as regulations at least every 3 months in the Federal Register. We published our first notice June 9, 1988 (53 FR 21730). Although we are not mandated to do so by statute, for the sake of completeness of the listing of operational and policy statements, and to foster more open and transparent collaboration, we are continuing our practice of including Medicare substantive and interpretive regulations (proposed and final) published during the respective 3-month time frame.

II. How To Use the Addenda

This notice is organized so that a reader may review the subjects of manual issuances, memoranda, substantive and interpretive regulations, NCDs, and FDA-approved IDEs published during the subject quarter to determine whether any are of particular interest. We expect this notice to be used in concert with previously published notices. Those unfamiliar with a description of our Medicare manuals may wish to review Table I of our first three notices (53 FR 21730, 53 FR 36891, and 53 FR 50577) published in 1988, and the notice published March 31, 1993 (58 FR 16837). Those desiring information on the Medicare NCD Manual (NCDM, formerly the Medicare Coverage Issues Manual (CIM)) may wish to review the August 21, 1989, publication (54 FR 34555). Those interested in the revised process used in making NCDs under the Medicare program may review the September 26, 2003, publication (68 FR 55634).

To aid the reader, we have organized and divided this current listing into eight addenda:

• Addendum I lists the publication dates of the most recent quarterly listings of program issuances.

• Addendum II identifies previous Federal Register documents that contain a description of all previously published CMS Medicare and Medicaid manuals and memoranda.

• Addendum III lists a unique CMS transmittal number for each instruction in our manuals or Program Memoranda and its subject matter. A transmittal may consist of a single or multiple instruction(s). Often, it is necessary to use information in a transmittal in conjunction with information currently in the manuals.

• Addendum IV lists all substantive and interpretive Medicare and Medicaid regulations and general notices published in the Federal Register during the quarter covered by this notice. For each item, we list the—

○ Date published;

○ Federal Register citation;

○ Parts of the Code of Federal Regulations (CFR) that have changed (if applicable);

○ Agency file code number; and

○ Title of the regulation.

• Addendum V includes completed NCDs, or reconsiderations of completed NCDs, from the quarter covered by this notice. Completed decisions are identified by the section of the NCDM in which the decision appears, the title, the date the publication was issued, and the effective date of the decision.

• Addendum VI includes listings of the FDA-approved IDE categorizations, using the IDE numbers the FDA assigns. The listings are organized according to the categories to which the device numbers are assigned (that is, Category A or Category B), and identified by the IDE number.

• Addendum VII includes listings of all approval numbers from the Office of Management and Budget (OMB) for collections of information in CMS regulations in title 42; title 45, subchapter C; and title 20 of the CFR.

• Addendum VIII includes listings of Medicare-approved carotid stent facilities. All facilities listed meet CMS's standards for performing carotid artery stenting for high risk patients.

III. How To Obtain Listed Material

A. Manuals

Those wishing to subscribe to program manuals should contact either the Government Printing Office (GPO) or the National Technical Information Service (NTIS) at the following addresses:

Superintendent of Documents, Government Printing Office, ATTN: New Orders, P.O. Box 371954, Pittsburgh, PA 15250-7954, Telephone (202) 512-1800, Fax number (202) 512-2250 (for credit card orders); or

National Technical Information Service, Department of Commerce, 5825 Port Royal Road, Springfield, VA 22161, Telephone (703) 487-4630.

In addition, individual manual transmittals and Program Memoranda listed in this notice can be purchased from NTIS. Interested parties should identify the transmittal(s) they want. GPO or NTIS can give complete details on how to obtain the publications they sell. Additionally, most manuals are available at the following Internet address: http://cms.hhs.gov/manuals/default.asp.

B. Regulations and Notices

Regulations and notices are published in the daily Federal Register. Interested individuals may purchase individual copies or subscribe to the Federal Register by contacting the GPO at the address given above. When ordering individual copies, it is necessary to cite either the date of publication or the volume number and page number.

The Federal Register is also available on 24x microfiche and as an online database through GPO Access. The online database is updated by 6 a.m. each day the Federal Register is published. The database includes both text and graphics from Volume 59, Number 1 (January 2, 1994) forward. Free public access is available on a Wide Area Information Server (WAIS) through the Internet and via asynchronous dial-in. Internet users can access the database by using the World Wide Web; the Superintendent of Documents home page address is http://www.gpoaccess.gov/fr/index.html, by using local WAIS client software, or by telnet to swais.gpoaccess.gov, then log in as guest (no password required). Dial-in users should use communications software and modem to call (202) 512-1661; type swais, then log in as guest (no password required).

C. Rulings

We publish rulings on an infrequent basis. Interested individuals can obtain copies from the nearest CMS Regional Office or review them at the nearest regional depository library. We have, on occasion, published rulings in the Federal Register. Rulings, beginning with those released in 1995, are available online, through the CMS Home Page. The Internet address is http://cms.hhs.gov/rulings.

D. CMS' Compact Disk-Read Only Memory (CD-ROM)

Our laws, regulations, and manuals are also available on CD-ROM and may be purchased from GPO or NTIS on a subscription or single copy basis. The Superintendent of Documents list ID is HCLRM, and the stock number is 717-139-00000-3. The following material is on the CD-ROM disk:

• Titles XI, XVIII, and XIX of the Act.

• CMS-related regulations.

• CMS manuals and monthly revisions.

• CMS program memoranda.

The titles of the Compilation of the Social Security Laws are current as of January 1, 1999. (Updated titles of the Social Security Laws are available on the Internet at http://www.ssa.gov/OP_Home/ssact/comp-toc.htm.) The remaining portions of CD-ROM are updated on a monthly basis.

Because of complaints about the unreadability of the Appendices (Interpretive Guidelines) in the State Operations Manual (SOM), as of March 1995, we deleted these appendices from CD-ROM. We intend to re-visit this issue in the near future and, with the aid of newer technology, we may again be able to include the appendices on CD-ROM.

Any cost report forms incorporated in the manuals are included on the CD-ROM disk as LOTUS files. LOTUS software is needed to view the reports once the files have been copied to a personal computer disk.

IV. How To Review Listed Material

Transmittals or Program Memoranda can be reviewed at a local Federal Depository Library (FDL). Under the FDL program, government publications are sent to approximately 1,400 designated libraries throughout the United States. Some FDLs may have arrangements to transfer material to a local library not designated as an FDL. Contact any library to locate the nearest FDL.

In addition, individuals may contact regional depository libraries that receive and retain at least one copy of most Federal Government publications, either in printed or microfilm form, for use by the general public. These libraries provide reference services and interlibrary loans; however, they are not sales outlets. Individuals may obtain information about the location of the nearest regional depository library from any library. For each CMS publication listed in Addendum III, CMS publication and transmittal numbers are shown. To help FDLs locate the materials, use the CMS publication and transmittal numbers. For example, to find the Medicare NCD publication titled “Implantable Automatic Defibrillators,” use CMS-Pub. 100-03, Transmittal No. 29.

(Catalog of Federal Domestic Assistance Program No. 93.773, Medicare—Hospital Insurance, Program No. 93.774, Medicare—Supplementary Medical Insurance Program, and Program No. 93.714, Medical Assistance Program)
Dated: June 20, 2005.
Jacquelyn White,
Director, Office of Strategic Operations and Regulatory Affairs.

Addendum I

This addendum lists the publication dates of the most recent quarterly listings of program issuances.

December 27, 2002 (67 FR 79109).

March 28, 2003 (68 FR 15196).

June 27, 2003 (68 FR 38359).

September 26, 2003 (68 FR 55618).

December 24, 2003 (68 FR 74590).

March 26, 2004 (69 FR 15837).

June 25, 2004 (69 FR 35634).

September 24, 2004 (69 FR 57312).

December 30, 2004 (69 FR 78428).

February 25, 2005 (70 FR 9338).

Addendum II—Description of Manuals, Memoranda, and CMS Rulings

An extensive descriptive listing of Medicare manuals and memoranda was published on June 9, 1988, at 53 FR 21730 and supplemented on September 22, 1988, at 53 FR 36891 and December 16, 1988, at 53 FR 50577. Also, a complete description of the former CIM (now the NCDM) was published on August 21, 1989, at 54 FR 34555. A brief description of the various Medicaid manuals and memoranda that we maintain was published on October 16, 1992, at 57 FR 47468.

Addendum III.—Medicare and Medicaid Manual Instructions
[January Through March 2005]
Transmittal No. | Manual/subject/publication No.
Medicare General Information (CMS Pub. 100-01)
15 | Review of Contractor Implementation of Change Requests (Replacement for expired CR 944).
| Review of Contractor Implementation of Change Requests.
| CR Implementation Report—Summary Page.
| CR Implementation Report—Details Page.
| CR Implementation Report—Sample Cover Letter/ Attestation Statement.
16 | Standard Terminology for Claims Processing Systems.
17 | This Transmittal rescinded and replaced Transmittal 15.
18 | Billing for Blood and Blood Products Under the Hospital Outpatient Prospective Payment System.
| Items Subject to Blood Deductibles.
| Blood.
19 | Revisions to Chapter 5, Section 50 of Publication 100-01 in the Internet Only.
| Manual to Clarify Current Policy.
| Home Health Agency Defined.
| Arrangements by Home Health Agencies.
| Rehabilitation Centers.
Medicare Benefit Policy (CMS Pub. 100-02)
29 | Telehealth Originating Site Facility Fee Payment Amount Update.
30 | Policy for Repair and Replacement of Durable Medical Equipment.
Medicare National Coverage Determinations (CMS Pub. 100-03)
27 | Infusion Pumps: C-Peptide Levels As A Criterion for Use.
28 | Update of Laboratory NCDs to Reference New Screening Benefits.
| Blood Glucose Testing.
| Lipid Testing.
29 | Implantable Automatic Defibrillators.
30 | Coverage of Colorectal Anti-Cancer Drugs Included in Clinical Trials.
| Anti-Cancer Chemotherapy for Colorectal Cancer (Effective January 28, 2005).
Medicare Claims Processing (CMS Pub. 100-04)
423 | January 2005 Update of the Hospital Outpatient Prospective Payment System: Summary of Payment Policy Changes.
424 | Implementation of the Annual Desk Review Program for Hospital Wage Data: Cost Reporting Periods Beginning on or After October 1, 2001, Through September 30, 2002 (FY 2006 Wage Index).
425 | Section 630 of the Medicare Modernization Act allows for the Reimbursement for Ambulance Services Provided by Indian Health Service/Tribal Hospitals, Including Critical Access Hospitals, Which Manage and Operate Hospital-Based Ambulances.
| General Coverage and Payment Policies.
| Indian Health Service/Tribal Billing.
426 | Modification to Reporting of Diagnosis Codes for Screening Mammography Claims.
| Healthcare Common Procedure Coding System and Diagnosis Codes for Mammography Services.
427 | Revision of Change Request 2928: Implementation of Payment Safeguards for Home Health Prospective Payment System Claims Failing to Report Prior Hospitalizations.
| Adjustments of Episode Payment—Hospitalization Within 14 Days of Start of Care.
428 | Update to Billing Requirements for FDG-Positron Emission Tomography Scans For Use in the Differential Diagnosis of Alzheimer's Disease and Fronto-Temporal Dementia and Update to the Fiscal Intermediaries Billing Requirements for Special Payment Procedures for All Positron Emission Tomography Scan.
| Claims for Services Performed in a Critical Access Hospital.
| Billing Instructions.
| Coverage for Positron Emission Tomography Scans for Dementia and Neurodegenerative Disease.
429 | Change to the Common Working File Skilled Nursing Facility Consolidated Billing Edits for Critical Access Hospitals That Have Elected Method II Payment Option and Bill Physician Services to Their Fiscal Intermediaries.
| Physician's Services and Other Professional Services Excluded From Part A PPS Payment and the Consolidated Billing Requirement.
430 | Mandatory Assignment for Medicare Modernization Act § 630 Claims.
| Other Part B Services.
| Durable Medical Equipment Regional Carrier Drugs.
| Claims Processing Requirements for Medicare Modernization Act § 630.
| Claims Processing for Durable Medical Equipment Prosthetic, Orthotics & Supplies and Durable Medical Equipment Regional Carrier Drugs.
| Enrollment for Durable Medical Equipment Prosthetic, Orthotics & Supplies and Durable Medical Equipment Regional Carrier Drugs.
| Enrollment and Billing for Clinical Laboratory and Ambulance Services and Part B Drugs.
| Claims Submission and Processing for Clinical Laboratory and Ambulance Services and Part B Drugs.
431 | Updated Skilled Nursing Facility No Pay File for April 2005.
432 | Adding an Indicator to the National Claims History to Indicate That Durable Medical Regional Carriers, Carriers, and Fiscal Intermediaries Have Reviewed a Potentially Duplicate Claim.
| Detection of Duplicate Claims.
433 | Issued to a specific audience, not posted to the Internet/Intranet due to the Sensitivity of Instruction.
434 | Addition of Clinical Laboratory Improvement Act Edits to Certain Health Care Procedure Coding System Codes for Mohs Surgery.
435 | This Transmittal has been rescinded and replaced by Transmittal 450.
436 | Remittance Advice Remark Code and Claim Adjustment Reason Code Update.
437 | Revisions and Corrections to the Medicare Claims Processing Manual, Chapter 6, Section 30 and Various Sections in Chapter 15.
| Billing Skilled Nursing Facility Prospective Payment System Services General Coverage and Payment Policies.
| Air Ambulance for Deceased Beneficiary.
| General Billing Guidelines for Intermediaries and Carriers.
| Intermediary Guidelines.
438 | Fiscal Intermediary Standard Paper Remittance Advice Changes.
439 | Modification to the Fiscal Intermediary Standard System Regarding Ambulance Services Billed on 18x and 21x Types of Bill.
440 | Updating the Common Working File Editing for Pap Smear (Q0091) and Adding a New Low Risk Diagnosis Code (V72.31) for Pap Smear and Pelvic Examination.
| Healthcare Common Procedure Coding System Codes for Billing.
| Diagnoses Codes.
| Payment Method.
| Revenue Codes and Healthcare Common Procedure Coding System Codes for Billing.
| Medicare Summary Notice Messages.
| Remittance Advice Codes.
441 | Viable Medicare Systems Changes to Durable Medical Equipment Regional Carrier Processing of Method II Home Dialysis Claims.
442 | Hospital Outpatient Prospective Payment System: Use of Modifiers -52, -73 and -74 for Reduced or Discontinued Services
| Use of Modifiers.
| Use of Modifiers for Discontinued Services.
443 | This Transmittal is rescinded and replaced by Transmittal 505.
444 | Further Information Related to Inpatient Psychiatric Facility Prospective Payment System
445 | Payment to Providers/Suppliers Qualified to Bill Medicare for Prosthetics and Certain Custom-Fabricated Orthotics.
| Provider Billing for Prosthetics and Orthotic Services.
446 | Diabetes Screening Tests.
447 | Common Working File Editing for Method Selection on Durable Medical Equipment Regional Carrier Claims for EPO and Aranesp
| Epoetin Alfa Furnished to Home Patients.
| Darbepoetin Alfa Furnished to Home Patients.
448 | Timeframe for Continued Execution of Crossover Agreements and Update on the Transition to the National Coordination of Benefits Agreement Program
| Crossover Claims Requirements.
| Fiscal Intermediaries Requirements.
| Durable Medical Equipment Regional Carrier Requirements.
| Consolidation of the Claims Crossover Process.
| Electronic Transmission - General Requirements.
| ANSI X12N 837 Coordination of Benefit Transaction Fee Collection.
| Medigap Electronic Claims Transfer Agreements.
| Intermediary Crossover Claim Requirements.
| Carrier/Durable Medical Equipment Regional Carrier Crossover Claims Requirements.
449 | April Quarterly Update to 2005 Annual Update of Healthcare Common Procedure Coding System Codes Used for Skilled Nursing Facility Consolidated Billing Enforcement
450 | Enforcement of Mandatory Electronic Submission of Medicare Claims
| Failure To Furnish Information Medicare Summary Notice Message.
| Falta De Information Sometida Medicare Summary Notice Message Enforcement.
451 | April 2005 Quarterly Fee Schedule Update for Durable Medical Equipment, Prosthetics, Orhtotics, and Supplies.
452 | New Remittance Advice Message for Referred Clinical Diagnostic/ Purchased Diagnostic Service Duplicate Claims.
453 | Instructions for Downloading the Medicare Zip Code File.
454 | Definitions of Electronic and Paper Claims.
| Payment Ceiling Standards.
455 | This transmittal is rescinded and replaced by Transmittal 509.
456 | Independent Laboratory Billing for the Technical Component of Physician.
| Pathology Services Furnished to Hospital Patients (Supplemental to Change Request 3467)
457 | Diabetes Screening Tests.
| Healthcare Common Procedure Coding System Coding for Diabetes Screening.
| Carrier Billing Requirements.
| Modifier Requirements for Pre-Diabetes.
| Fiscal Intermediary Billing Requirements.
| Diagnosis Code Reporting.
| Medicare Summary Notices.
| Remittance Advice Remark Codes.
| Claims Adjustment Reason Codes.
458 | Hospice Physician Recertification Requirements.
| Data Required on Claim to Fiscal Intermediaries.
459 | Full Replacement of Change Request 3427, Transmittal 342, Issued on October 29, 2004—Change to the Common Working File Skilled Nursing Facility.
| Consolidated Billing Edits for Ambulance Transports to or From a Diagnostic or Therapeutic Site.
| Ambulance Services.
| Skilled Nursing Facility Billing.
460 | Issued to a specific audience, not posted to Internet/Intranet due to Confidentiality of Instruction.
461 | Processing Durable Medical Equipment, Orthotics, Prosthetics, Drugs, and Surgical Dressings Claims for Indian Health Services and Tribally Owned and Operated Hospitals or Hospital Based Facilities Including Critical Access.
| Hospital.
| Other Part B Services.
| Prosthetics and Orthotics.
| Prosthetic Devices.
| Surgical Dressings and Splints and Casts.
| Drugs Dispensed by IHS Hospital-Based or Freestanding Facilities.
| Claims Processing for Durable Medical Equipment Prosthetics, Orthotics & Supplies.
| Enrollment for Durable Medical Equipment Prosthetics, Orthotics & Supplies.
| Claims Submission for Durable Medical Equipment Prosthetics, Orthotics & Supplies.
462 | Durable Medical Equipment Regional Carrier Only—Dispensing Fees for Immunosuppressive Drugs.
463 | Update to 100-04 and Therapy Code Lists.
| Healthcare Common Procedure Coding System Coding Requirement.
| Part B Outpatient Rehabilitation and Comprehensive Outpatient Rehabilitation Facility Services—General.
| Discipline Specific Outpatient Rehabilitation Modifiers—All Claims.
| The Financial Limitation.
| Reporting of Service Units With HCPCS—Form CMS-1500 and Form CMS-1450.
464 | Implementation of the Abstract File for Purchased Diagnostic.
| Test/Interpretations (Supplemental to CR 3481).
| Payment Jurisdiction Among Local Carriers for Services Paid Under the Physician Fee Schedule and Anesthesia Services.
| Payment Jurisdiction for Purchased Services.
| Payment to Physician or Other Supplier for Purchased Diagnostic Tests—Claims Submitted to Carriers.
| Payment to Supplier of Diagnostic Tests for Purchased Interpretations.
465 | Billing Requirements for Physician Services in Method II Critical Access Hospitals.
| Payment for Inpatient Services Furnished by a Critical Access Hospital.
| Special Rules for Critical Access Hospital Outpatient Billing.
| Billing and Payment in a Physician Scarcity Area.
466 | Quarterly Update to Correct Coding Initiative Edits, Version 11.1, Effective April 1, 2005.
467 | Modifications to Duplicate Editing for Dispensing/Supply Fee Codes for Oral Anti-Cancer, Oral Anti-Emetic, Immunosuppressive and Inhalation Drugs.
468 | Appeals Transition—Benefits, Improvement & Protection Act Section 521.
| Appeals.
469 | New Waived Tests—April 1, 2005.
470 | Standardization of Fiscal Intermediary Use of Group and Claim Adjustment.
| Reason Codes and Calculation and Balancing of TS2 and TS3 Segment.
| Data Elements.
471 | This Transmittal is rescinded and replaced by Transmittal 513.
472 | Revisions to Payment for Services Provided Under a Contractual Arrangement—Carrier Claims Only.
| Exceptions to Assignment of Provider's Right to Payment—Claims Submitted to Fiscal Intermediaries and Carriers.
| Payment for Services Provided Under a Contractual Arrangement—Carrier Claims Only.
473 | Use of 12X Type of Bill for Billing Vaccines and Their Administration Bills Submitted to Fiscal Intermediaries.
474 | Coordination of Benefits Agreement Detailed Error Report Notification Process.
475 | 1st Update to the 2005 Medicare Physician Fee Schedule Database.
476 | Type of Service Corrections.
477 | New Case-Mix Adjusted End-Stage Renal Disease Composite Payment Rates And New Composite Rate Exceptions Window for Pediatric End-Stage Renal Disease Facilities.
| Outpatient Provider-Specific File.
| Calculation of Case-Mix Adjustment Composite Rate.
| Required Information for In-Facility Claims Paid Under the Composite Rate.
478 | Clarification of the Verification Process to be Used to Determine If the Inpatient Rehabilitation Facility Meets the Inpatient Rehabilitation Classification Criteria Verification Process To Be Used To Determine If the Inpatient Rehabilitation Facility Met the Classification Criteria.
479 | Update to the Healthcare Provider Taxonomy Codes Version 5.0.
480 | April 2005 Quarterly Average Sale Price Medicare Part B Drug Pricing File, Effective April 1, 2005, and New January 2005 Quarterly Average Sale Price File.
481 | Updated Manual Instructions for the Medicare Claims Processing Manual, Chapter 10.
| General Guidelines for Processing Home Health Agency Claims.
| Effect of Election of Medicare Advantage Organization and Eligibility Changes on Home Health Prospective Payment System Episodes.
| General Guidance on Line Item Billing Under the Home Health Prospective Payment System.
| Request for Anticipated Payment.
| Home Health Prospective Payment System Claims.
| Special Billing Situations Involving Outcome & Assessment Information Set Assessments.
| Medical and Other Health Services Not Covered Under the Plan of Care (Bill Type 34X).
482 | Manualization of Payment Change for Diagnostic Mammography and Diagnostic Computer Aided Detection.
| Screening Mammography Services.
| Computer Aided Design Billing Charts.
| Payment for Screening Mammography Services Provided Prior to January 1, 2002.
| Payment for Screening Mammography Services Provided On and After January 1, 2002.
| Outpatient Hospital Mammography Payment Table.
| Payment for Computer Add-On Diagnostic and Screening Mammograms for Fiscal Intermediaries and Carriers.
| Mammograms Performed With New Technologies.
483 | Hospital Partial Hospitalization Services Billing Requirements.
| Special Partial Hospitalization Billing Requirements for Hospitals, Community Mental Health Centers, and Critical Access Hospitals.
| Bill Review for Partial Hospitalization Services Provided in Community Mental Health Centers.
484 | New Remittance Advice Message for Referred Clinical Diagnostic/Purchased Diagnostic Service Duplicate Claims.
485 | Calculating Payment-to-Cost Ratios for Purposes of Determining Transitional Corridor Payments Under the Outpatient Prospective Payment System.
486 | Manualization of Carrier Claims Processing Instructions for Stem Cell Transplantation.
| Stem Cell Transplantation.
| General.
| Healthcare Common Procedure Coding System and Diagnosis Coding.
| Non-Covered Conditions.
| Edits.
| Suggested Medicare Summary Notice and Remittance Advice Messages.
487 | Medicare Qualifying Clinical Trials.
| Chapter 32, Section 69.0—Qualifying Clinical Trials.
488 | This Transmittal has been rescinded and replaced by Transmittal 497.
489 | Correction to Healthcare Common Procedure Coding System Code A4217.
| Payment of Durable Medical Equipment Prosthetics, Orthotics & Supplies Items Based on Modifiers.
490 | Claims Status Code/Claims Status Category Code Update.
| Health Care Claims Status Category Codes and Health Care Claims Status Codes for Use With Health Care Claims Status Request and Response ASC X12N 276/277.
491 | Issued to a specific audience, not posted to Internet/Intranet due to Confidentiality of Instruction.
492 | Adding an Indicator to the National Claims History to Indicate That Durable Medical Equipment Regional Carrier, Carriers and Fiscal Intermediaries Have Reviewed a Potentially Duplicate Claim.
| Detection of Duplicate Claims.
493 | Revision to Chapter 1, and Removal of Section 70 from Chapter 25 of the Medicare Claims Processing Manual.
| Inpatient Billing From Hospitals and Skilled Nursing Facilities.
| Submitting Bills in Sequence for a Continuous Inpatient Stay or Course of Treatment.
| Intermediary Processing of No-Payment Bills.
| Time Limitations for Filing Provider Claims to Fiscal Intermediaries.
| Statement of Intent.
| Filing Request for Payment to Carriers—Medicare Part B.
| Fiscal Intermediary Consistency Edits.
| Patient is a Member of a Medicare Advantage Organization for Only a Portion of the Billing Period.
| Late Charges.
| Inpatient Part A Hospital Adjustment Bills.
494 | April 2005 Outpatient Prospective Payment System Code Editor Specifications Version 6.1.
495 | Inpatient Psychiatric Facility Prospective Payment System—Further Clarifications.
496 | Billing for Blood and Blood Products Under the Hospital Outpatient Prospective Payment System.
| When a Provider Paid Under the Outpatient Prospective Payment System Does Not Purchase the Blood or Blood Products That It Procures From a Community Blood Bank, or When a Provider Paid Under the Outpatient Prospective Payment System Does Not Assess a Charge for Blood or Blood Products Supplied by the Provider's Own Blood Bank Other Than Blood Processing and Storage.
| When a Provider Paid Under the Outpatient Prospective Payment System Purchases Blood or Blood Products from a Community Blood Bank or When a Provider Paid Under the Outpatient Prospective Payment System Assesses a Charge for Blood or Blood Products Collected by Its Own Blood Bank That Reflects More Than Blood Processing and Storage.
| Billing for Autologous Blood (Including Salvaged Blood) and Directed Donor Blood.
| Billing for Split Unit of Blood.
| Billing for Irradiation of Blood Products.
| Billing for Frozen and Thawed Blood and Blood Products.
| Billing for Unused Blood.
| Billing for Transfusion Services.
| Billing for Pheresis and Apheresis Services.
| Correct Coding Initiative Edits.
| Blood Products and Drugs Classified in Separate Average Projected Costs for Hospital Outpatients.
497 | Billing for Implantable Automatic Defibrillators for Beneficiaries in a Medicare Advantage Plan and Use of the Quarterly Refund Modifier to Identify Patient Registry Participation.
498 | Billing of the Diagnosis and Treatment of Peripheral Neuropathy With Loss of Protective Sensation in People With Diabetes.
| General Billing Requirements.
| Applicable Healthcare Common Procedure Coding System Codes.
| Diagnosis Codes.
| Payment.
| Applicable Revenue Codes.
| Editing Instructions for Fiscal Intermediaries.
| Common Working File General Information.
| Common Working File Utilization Edits.
499 | 2005 Scheduled Release for April Updates to Software Programs and Pricing/Coding Files.
500 | Changes to the Laboratory National Coverage Determination Edit.
| Software for April 2005.
501 | Bone Mass Measurements—Procedure Coding.
502 | New Contrast Agents Healthcare Common Procedure Coding System Codes.
503 | April Update to the Medicare Non-Outpatient Prospective Payment Systems.
| Outpatient Code Editor Specification Version 20.2.
504 | Update to Pub 100-04, Chapter 12, Section 200 of the Internet Only Manual.
| Allergy Testing and Immunotherapy.
505 | Unprocessable Unassigned Form CMS-1500 Claims.
| Incomplete or Invalid Claims Processing Terminology.
506 | Updated Manual Instructions for Item 24G (Days or Units), Chapter 26.
507 | New Healthcare Common Procedure Coding System for Intravenous Immune Globulin.
508 | This Transmittal is rescinded and replaced by Transmittal 514.
509 | Number of Drug Pricing Files That Must Be Maintained Online for Medicare—Durable Medical Equipment Regional Carriers Only.
| Online Pricing Files for Average Sales Price.
510 | Update to Fiscal Year 2005 Pricer for IPPS Hospitals.
511 | Type of Service Corrections.
512 | Coverage of Colorectal Anti-Cancer Drugs Included in Clinical Trials.
513 | Infusion Pumps: C-Peptide Levels As a Criterion for Use.
514 | April 2005 Update of the Hospital Outpatient Prospective Payment System: Summary of Payment Policy Changes.
Medicare Secondary Payer (CMS Pub. 100-05)
23 | Modification to Online Medicare Secondary Payer Questionnaire.
| Admission Questions to Ask Medicare Beneficiaries.
24 | Issued to a specific audience, not posted to Internet/Intranet, due to Sensitivity of Instruction.
25 | Update Medicare Secondary Payer Manual Publication 100-05 to reflect Statutory Changes included in the Medicare Modernization Act.
| General Provisions.
| Conditional Primary Medicare Benefits.
| When Conditional Primary Medicare Benefits May Be Paid.
| When Medicare Secondary Benefits Are Payable and Not Payable.
| Definitions.
| Beneficiary's Rights and Responsibility.
| Statutory Provisions.
| No-Fault Insurance.
| Situations in Which Medicare Secondary Payer Billing Applies.
| Incorrect Group Health Plan Primary Payments.
| General Policy.
| Conditional Primary Medicare Benefits.
| Conditional Medicare Payment.
| Medicare Right of Recovery.
| Conflicting Claims by Medicare and Medicaid.
| Third Party Payer Refund Requests Served on Medicare.
| General Operational Instructions.
| Conditional Primary Medicare Benefits.
| Existence of Overpayment.
26 | Clarification for Change Request (CR) 3267.
| General Policy.
27 | Updates to the Electronic Correspondence Referral System User Guide v8.0 and Quick Reference Card v8.0.
| Coordination of Benefits Contractor Electronic Correspondence Referral System.
| Providing Written Documents to the Coordination of Benefits Contractor.
Medicare Financial Management (CMS Pub. 100-06)
55 | Reporting Appeals Redetermination Information on Forms CMS-2591 and 2590.
56 | Revision to Balancing Requirement on Form 5, Line 10, of the Contractor.
| Reporting of Operational and Workload Data.
57 | Revised Reporting Requirements for Contractor Reporting of Operational Workload Data Health Professional Shortage Area Quarterly Report.
58 | Issued to specific audience, not posted to Internet/Intranet due to Sensitivity of Instruction.
59 | Notice of New Interest Rate for Medicare Overpayments and Underpayments.
60 | Revised instructions on contractor procedures for provider audit and the Provider.
| Statistical & Reimbursement Report.
| Submission of Cost Report Data to CMS.
| Desk Review Exceptions Resolution Process.
| Definition of Field Audits.
| Purpose of Field Audits.
| Establishing the Objective/Scope of the Field Audit.
| Audit Confirmation Letter.
| Entrance Conference.
| Tests of Internal Control.
| Designing Tests/Sampling.
| Pre-Exit Conference.
| Finalization of Audit Adjustments.
| Exit Conference.
| Medicare Cost Report and All Related Documents.
| Qualifications.
| Internal Quality Control.
| Final Settlement of the Cost Report.
| Audit Responsibility When Provider Changes Contractors.
| Audits of Home Offices.
| Standards for Issuance of an Audit Report for a Home Office.
| Provider Permanent File.
| Contractor Responsibility in Suspected Fraud or Abuse Cases.
61 | New Location Code Interstate Commerce Commission, Status Code AR and Modified Intent Letter for Unfiled Cost Reports Only.
| Recovery of Overpayment Due to Overdue Cost Report.
| Provider Overpayment Recovery System User Manual.
| List of Status Codes.
| Content of Demand Letters-Fiscal Intermediary Serviced Providers.
62 | Timeframe for Continued Execution of Crossover Agreements and Updated on the Transition to the National Coordination of Benefits Agreement Program.
| Coordination of Medicare and Complementary Insurance Programs.
63 | Notice of New Interest Rate for Medicare Overpayments and Underpayments.
64 | For Fiscal Intermediaries, a New Provider Type 80, Status Code CH, and Method of Recoupment Codes. For Carriers and Durable Medical Equipment.
| Regional Carriers Status Code 2.
| Provider Overpayment Reporting System User Manual.
| List of Status Codes.
| Physician/Supplier Overpayment Reporting System User Manual.
65 | Revised Reporting Requirements for Contractor Reporting of Operational Workload Data Physician Scarcity Area Quarterly Report (CMS Form—1565F, CROWD Form6).
| Completing Physician Scarcity Area Quarterly Report Form CMS 1565F, CROWD Form 6.
| Physician Scarcity Area Quarterly Report, Line Descriptors.
| Error Descriptors.
| Checking Reports.
66 | Chapter 7, Internal Control Requirements Update.
| Federal Managers' Financial Integrity Act of 1982.
| Federal Managers Financial Integrity Act and the CMS Medicare Contractor Contract.
| Chief Financial Officers Act of 1990.
| Office of Management & Budget Circular A-123.
| General Accounting Office Standards for Internal Controls in the Federal Government.
| Fundamental Concepts.
| Control Activities.
| Monitoring.
| Risk Assessment.
| Internal Control Objectives.
| Fiscal Year 2005 Medicare Control Objectives.
| Policies and Procedures.
| Control Activities.
| Testing Methods.
| Documentation and Working Papers.
| Requirements.
| Certification Statement.
| Executive Summary.
| Certification Package for Internal Controls Report of Material Weaknesses.
| Certification Package for Internal Controls Report of Reportable Conditions.
| Definitions and Examples of Reportable Conditions and Material Weaknesses.
| Material Weaknesses Identified During the Fiscal Year.
| Corrective Action Plans.
| Submission, Review, and Approval of Corrective Action Plans.
| Corrective Action Plan Reports.
| CMS Finding Numbers.
| Initial Corrective Action Plan Report.
| Quarterly Corrective Action Plan Report.
| Entering Data: Initial or Quarterly Corrective Action Plan Report.
Medicare State Operations Manual (CMS Pub. 100-07)
00 | None
Medicare Program Integrity (CMS Pub. 100-08))
93 | This Transmittal has been rescinded and replaced by Transmittal 102.
94 | Informing Beneficiaries About Which Local Medical Review Policy and/or Local Coverage Determination and/or National Coverage.
| Determination Is Associated With Their Claim Denial.
| Prepayment Edits.
95 | Change in Provider Enrollment Appeals Process.
| Administrative Appeals.
96 | Consent Settlements.
| Postpayment Review Case Selection.
| Location of Postpayment Reviews.
| Re-adjudication of Claims.
| Calculation of the Correct Payment Amount and Subsequent Over/Underpayment.
| Notification of Provider(s) or Supplier(s) and Beneficiaries of the Postpayment Review Results.
| Provider(s) or Supplier(s) Rebuttal(s) of Findings.
| Evaluation of the Effectiveness of Postpayment Review and Next Steps.
| Consent Settlement Instructions.
| Background on Consent Settlement.
| Opportunity to Submit Additional Information Before Consent Settlement Offer.
| Consent Settlement Offer.
| Election to Proceed to Statistical Sampling for Overpayment Estimation.
| Acceptance of Consent Settlement Offer.
| Consent Settlement Budget and Performance Requirements for Medicare Contractors.
97 | Provider Enrollment and Inpatient Rehabilitation Facility (IRF) Compliance Reviews.
98 | Psychotherapy Notes.
| Additional Documentation Requests During Prepayment or Postpayment Medical Review.
99 | Program Integrity Manual Modification—Changes Waivers Approved by the Regional Office by Replacing Regional Office With Central Office.
| Contractor Medical Director.
| Benefit Integrity Security Requirements.
| The Carrier Advisory Committee.
100 | Review of Documentation During Medical Review.
| Additional Documentation Requests During Prepayment or Postpayment Medical Review.
| Documentation in the Patient's Medical Records.
101 | Benefit Integrity Personal Information Manager Revisions.
| Sources of Data for Program Safeguard Contractors.
| Procedural Requirements.
| Benefit Integrity Security Requirements.
| Requests for Information From Outside Organizations.
| Program Safeguard Contractor and Medicare Contractor Coordination With Other Program.
| Safeguard Contractors and Medicare Contractors.
| Complaint Screening.
| Types of Fraud Alerts.
| Alert Specifications.
| Editorial Requirements.
| Coordination.
| Distribution of Alerts.
| Information Not Captured in the Fraud Investigation Database.
| Initial Entry Requirements for Investigations.
| Designated Program Safe Guard and Medicare Contractor Background Investigation.
| Unit Staff and the Fraud Investigation Database.
| Affiliated Contractor and Program Safeguard Contractor Coordination on Voluntary Refunds.
| Referral of Cases to the Office of the Inspector General/Office of Investigations.
| Referral to State Agencies or Other Organizations.
| Civil Monetary Penalties Delegated to Office of the Inspector General.
| Annual Deceased-Beneficiary Postpayment Review.
| Vulnerability Report.
102 | Medical Review of Rural Air Ambulance Services.
| “Reasonable” Requests.
| Emergency Medical Services Protocols.
| Prohibited Air Ambulance Relationships.
| Reasonable and Necessary Services.
| Definition of Rural Air Ambulance Services.
103 | Discontinuation of Medical Review Reports—The Medicare Status Report.
| Report of Benefit Savings, Medicare Focused Medical Review Status Report, and Focused Medical Review Report.
104 | Requirement that Medicare Carrier System Not Allow the Re-review of Previously Denied Claims.
| Contractor Administrative Budget & Financial Management II Reporting for Medical Review Activities.
105 | The Medically Unbelievable Edits.
106 | Inclusion of Interventional Pain Management Specialists on Carrier Advisory Committee Membership Physicians.
Medicare Contractor Beneficiary and Provider Communications (CMS Pub. 100-09)
08 | Medicare Beneficiary Call Centers Will Begin Offering Preventive Services Information.
| Promote Medicare Preventive Services.
Medicare Managed Care (CMS Pub. 100-16)
65 | Surveys, Contracting Strategy, and Appeals.
Medicare Business Partners Systems Security (CMS Pub. 100-17)
00 | None.
Demonstrations (CMS Pub. 100-19)
15 | Issued to a specific audience, not posted to Internet/Intranet due to the Confidentiality of Instruction
16 | Issued to a specific audience, not posted to Internet/Intranet due to the Sensitivity of Instruction.
17 | Demonstration Project for Medical Adult Day-Care Services.
18 | Demonstration Project to Clarify the Definition of Homebound, the Home Health Independence Demonstration.
19 | Issued to a specific audience, not posted to Internet/Intranet due to Sensitivity of Instruction.
20 | Full Replacement of CR 3220, Method of Reimbursement for Inpatient Services for Rural Hospital Participating Under Demonstration Authorized by Section 410A of the Medicard Modernization Act, CR 3220 Is Rescinded.
21 | Full Replacement of CR 3639, Expansion of Coverage for Chiropractic Services Demonstration.
One Time Notification (CMS Pub. 100-20)
134 | Revisions to January 2005 Quarterly Average Sales Price Medicare Part B Drug Pricing File.
135 | Shared System Maintainer Hours for Resolution of Problems Detected During Health Insurance Portability and Accountability Act Transaction Release Testing.
136 | Medlearn Matters Article Related to the Flu Demonstration.
137 | Instruction to Contractors Regarding Aged, Pre-settlement Cases and Inter-Contractor Notices.
138 | Production of Provider Flat Files, Including Taxpayer Identification Numbers, From the Fiscal Intermediary Standard System, Financial Master Files.
139 | Update to the Evaluation Plan for the CD-Rom Initiative Used in the Mailing of 2005 Annual Participation Enrollment Material.
140 | Revisions to January 2005 Quarterly Average Sales Price Medicare Part B Drug Pricing File.
141 | Shared System and Common Working File Renovation of Override Code Process (Phase 3).
142 | This Transmittal Is Rescinded and Will Not Be Replaced at this Time.
143 | Shared System Maintainer Hours to Begin Work and Analysis on the Implementation of the National Provider Identifier—FOR ANALYSIS ONLY.
144 | Debt Collection Improvement Act Backlog Non-Medicare Secondary Payor Collections From February 1998 to September 2004.
145 | Frequent Hemodialysis Network Payment Changes for Approved Clinical Trial Costs.
146 | Appeals Transition—BIPA Section 521 Appeals.

Addendum IV.—Regulation Documents Published in the Federal Register January Through March 2005
Publication date | FR Vol. 70 page No. | CFR parts affected | File code | Title of regulation
January 19, 2005 | 3036 |  | CMS-2230-NC | State Children's Health Insurance Program (SCHIP); Redistribution of Unexpended SCHIP Funds From the Appropriation for Fiscal Year 2002.
January 28, 2005 | 4588 | 417 and 422 | CMS-4069-F | Medicare Program; Establishment of the Medicare Advantage Program.
January 28, 2005 | 4194 | 400, 403, 411, 417, and 423 | CMS-4068-F | Medicare Program; Medicare Prescription Drug Benefit.
January 28, 2005 | 4133 |  | CMS-3150-N | Medicare Program; Meeting of the Medicare Coverage Advisory Committee—March 29, 2005.
January 28, 2005 | 4132 |  | CMS-5033-N2 | Medicare Program; Meeting of the Advisory Board on the Demonstration of a Bundled Case-Mix Adjusted Payment System for End-Stage Renal Disease Services.
January 28, 2005 | 4130 |  | CMS-5037-N | Medicare Program; Demonstration of Coverage of Chiropractic Services Under Medicare.
January 28, 2005 | 4129 |  | CMS-4079-N | Medicare Program; Re-Chartering of the Advisory Panel on Medicare Education (APME) and Notice of the APME Meeting—February 24, 2005.
February 3, 2005 | 5724 | 412 | CMS-1483-P | Medicare Program; Prospective Payment System for Long-Term Care Hospitals: Proposed Annual Payment Rate Updates, Policy Changes, and Clarification.
February 4, 2005 | 6526 | 423 | CMS-0011-P | Medicare Program; E-Prescribing and the Prescription Drug Program.
February 4, 2005 | 6184 | 400, 405, 410, 412, 413, 414, 488, and 494 | CMS-3818-P | Medicare Program; Conditions for Coverage for End-Stage Renal Disease Facilities
February 4, 2005 | 6140 | 405, 482, and 488 | CMS-3835-P | Medicare Program; Hospital Conditions of Participation: Requirements for Approval and Re-Approval of Transplant Centers To Perform Organ Transplants.
February 4, 2005 | 6086 | 413, 441, 486, and 498 | CMS-3064-P | Medicare and Medicaid Programs; Conditions for Coverage for Organ Procurement Organizations (OPOs).
February 4, 2005 | 6014 |  | CMS-1366-N | Medicare Program; Meeting of the Practicing Physicians Advisory Council—March 7, 2005.
February 4, 2005 | 6013 |  | CMS-1299-N | Medicare Program; Monthly Payment Amounts for Oxygen and Oxygen Equipment for 2005, in Accordance with Section 302(c) of the Medicare Prescription Drug, Improvement, and Modernization Act of 2003.
February 4, 2005 | 6012 |  | CMS-3155—N | Medicare Program; Quality Improvement Organization Contracts: Solicitation of Statements of Interest From In-State Organizations—Alaska, Hawaii, Idaho, Maine, South Carolina, Vermont, and Wyoming.
February 25, 2005 | 9362 |  | CMS-4089-N | Medicare Program; Meeting of the Advisory Panel on Medicare Education—March 22, 2005.
February 25, 2005 | 9360 |  | CMS-4088-N | Medicare Program; Part D Reinsurance Payment Demonstration.
February 25, 2005 | 9358 |  | CMS-1219-N | Medicare Program; Changes in Geographical Boundaries of Durable Medical Equipment Regional Service Areas.
February 25, 2005 | 9355 |  | CMS-3119-FN | Medicare Program; Procedures for Maintaining Code Lists in the Negotiated National Coverage Determinations for Clinical Diagnostic Laboratory Services.
February 25, 2005 | 9338 |  | CMS-9025-N | Medicare and Medicaid Programs; Quarterly Listing of Program Issuances—October Through December 2004.
February 25, 2005 | 9337 |  | CMS-5011-WN2 | Medicare and Medicaid Programs; Solicitation of Proposals for the Private, For-Profit Demonstration Project for the Program of All-Inclusive Care for the Elderly (PACE); Cancellation of Withdrawal.
February 25, 2005 | 9336 |  | CMS-1296-N | Medicare Program; Request for Nominations to the Advisory Panel on Ambulatory Payment Classification Groups.
February 25, 2005 | 9232 | 421 | CMS-1219-F | Medicare Program; Durable Medical Equipment Regional Carrier Service Areas and Related Matters.
March 4, 2005 | 10746 | 414 | CMS-1325-P | Medicare Program; Competitive Acquisition of Outpatient Drugs and Biologicals Under Part B.
March 4, 2005 | 10645 |  | CMS-4089-N2 | Medicare Program; Meeting of Advisory Panel on Medicare Education—March 22, 2005: Location Change.
March 8, 2005 | 11420 | 401 and 405 | CMS-4064-IFC | Medicare Program; Changes to the Medicare Claims Appeal Procedures.
March 11, 2005 | 12691 |  | CMS-1269-N3 | Medicare Program; Emergency Medical Treatment and Labor Act (EMTALA) Technical Advisory Group (TAG) Meeting and Announcement of Members.
March 21, 2005 | 13401 | 417 and 422 | CMS-4069-F2 | Medicare Program; Establishment of the Medicare Advantage Program; Interpretation.
March 21, 2005 | 13397 | 400, 403, 411, 417, and 423 | CMS-4068-F2 | Medicare Program; Medicare Prescription Drug Benefit; Interpretation.
March 25, 2005 | 15394 |  | CMS-4080-N | Medicare Program; Recognition of NAIC Model Standards for Regulation of Medicare Supplemental Insurance.
March 5, 2005 | 15343 |  | CMS-5033-N3 | Medicare Program; Meeting of the Advisory Board on the Demonstration of a Bundled Case-Mix Adjusted Payment System for End-Stage Renal Disease Services.
March 25, 2005 | 15341 |  | CMS-3151-N | Medicare Program; Meeting of the Medicare Coverage Advisory Committee—May 24, 2005.
March 25, 2005 | 15340 |  | CMS-1297-N | Medicare Program; Public Meetings in Calendar Year 2005 for All New Public Requests for Revisions to the Healthcare Common Procedures Coding System (HCPS) Coding and Payment Determinations.
March 25, 2005 | 15337 |  | CMS-3112-FN | Medicare Program; Disapproval of Adjustment in Payment Amounts for New Technology Intraocular Lenses Furnished by Ambulatory Surgical Centers.
March 25, 2005 | 15335 |  | CMS-2256-FN | Medicare and Medicaid Programs; Reapproval of the Deeming Authority of the Community Health Accreditation Program (CHAP) for Home Health Agencies.
March 25, 2005 | 15333 |  | CMS-2208—FN | Medicare and Medicaid Programs; Recognition of the American Osteopathic Association (AOA) for Continued Approval of Deeming Authority for Hospitals.
March 25, 2005 | 15331 |  | CMS-2204-FN | Medicare and Medicaid Programs; Reapproval of the Deeming Authority of the Joint Commission on Accreditation of Healthcare Organizations (JCAHO) for Home Health Agencies.
March 25, 2005 | 15329 |  | CMS-0014-N | Procedures for Non-Privacy Administrative Simplification Complaints Under the Health Insurance Portability and Accountability Act of 1996.
March 25, 2005 | 15324 |  | CMS-2211-N | Medicare, Medicaid, and CLIA Programs; Continuance of the Approval of the American Society for Histocompatibility and Immunogentics as a CLIA Accreditation Organization.
March 25, 2005 | 15266 | 482 | CMS-3122-P | Medicare and Medicaid Programs; Hospital Conditions of Participation: Requirements for History and Physical Examinations; Authentication of Verbal Orders; Securing Medications; and Postanesthesia Evaluations.
March 25, 2005 | 15265 | 413, 441, 486, and 498 | CMS-3064-N | Medicare and Medicaid Programs; Conditions for Coverage for Organ Procurement Organizations (OPOs); Extension of Comment Period.
March 25, 2005 | 15264 | 405, 482, and 488 | CMS-3835-N | Medicare Program; Hospital Conditions of Participation: Requirements for Approval and Re-Approval of Transplant Centers To Perform Organ Transplants; Extension of Comment Period.
March 25, 2005 | 15229 | 403, 416, 418, 460, 482, 483, and 485 | CMS-3145-IFC | Medicare and Medicaid Programs; Fire Safety Requirements for Certain Health Care Facilities; Amendment.

Addendum V.—National Coverage Determinations [January Through March 2005]

A national coverage determination (NCD) is a determination by the Secretary with respect to whether or not a particular item or service is covered nationally under Title XVIII of the Social Security Act, but does not include a determination of what code, if any, is assigned to a particular item or service covered under this title, or determination with respect to the amount of payment made for a particular item or service so covered. We include below all of the NCDs that were issued during the quarter covered by this notice. The entries below include information concerning completed decisions as well as sections on program and decision memoranda, which also announce pending decisions or, in some cases, explain why it was not appropriate to issue an NCD. We identify completed decisions by the section of the NCDM in which the decision appears, the title, the date the publication was issued, and the effective date of the decision. Information on completed decisions as well as pending decisions has also been posted on the CMS Web site at http://cms.hhs.gov/coverage.

National Coverage Determinations
[January Through March 2005]
Title | NCDM section | TN No. | Issue date | Effective date
Infusion Pumps: C-Peptide Levels as a Criterion for Use | 280.14 | R27NCD | 02/04/05 | 12/17/04
Update of Laboratory NCDs to Reference New Screening Benefits | 190.20/190.23 | R28NCD | 02/11/05 | 01/01/05
Implantable Automatic Defibrillators | 20.4 | R29NCD | 03/04/05 | 01/27/05
Anti-Cancer Chemotherapy for Colorectal Cancer | 110.17 | R30NCD | 03/29/05 | 01/28/05

Addendum VI. FDA-Approved Category B IDEs [January Through March 2005]

Under the Food, Drug, and Cosmetic Act (21 U.S.C. 360c) devices fall into one of three classes. To assist CMS under this categorization process, the FDA assigns one of two categories to each FDA-approved IDE. Category A refers to experimental IDEs, and Category B refers to non-experimental IDEs. To obtain more information about the classes or categories, please refer to the Federal Register notice published on April 21, 1997 (62 FR 19328).

The following list includes all Category B IDEs approved by FDA during the first quarter, January through March 2005.

IDE | Category
G030069
G040051
G040161
G040166
G040195
G040196
G040218
G040219
G040224
G040227
G040228
G040230
G040232
G040233
G050001
G050004
G050009
G050011
G050018
G050019
G050021
G050022
G050024
G050026
G050029
G050034
G050038
G050043
G050045

Addendum VII.—Approval Numbers for Collections of Information

Below we list all approval numbers for collections of information in the referenced sections of CMS regulations in Title 42; Title 45, Subchapter C; and Title 20 of the Code of Federal Regulations, which have been approved by the Office of Management and Budget:

OMB control Nos. | Approved CFR Sections in Title 42, Title 45, and Title 20 (Note: Sections in Title 45 are preceded by “45 CFR,” and sections in Title 20 are preceded by “20 CFR”)
0938-0008 | 414.40, 424.32, 424.44
0938-0022 | 413.20, 413.24, 413.106
0938-0023 | 424.103
0938-0025 | 406.28, 407.27
0938-0027 | 486.100-486.110
0938-0033 | 405.807
0938-0035 | 407.40
0938-0037 | 413.20, 413.24
0938-0041 | 408.6, 408.22
0938-0042 | 410.40, 424.124
0938-0045 | 405.711
0938-0046 | 405.2133
0938-0050 | 413.20, 413.24
0938-0062 | 431.151, 435.1009, 440.220, 440.250, 442.1, 442.10-442.16, 442.30, 442.40, 442.42, 442.100-442.119, 483.400-483.480, 488.332, 488.400, 498.3-498.5
0938-0065 | 485.701-485.729
0938-0074 | 491.1-491.11
0938-0080 | 406.7, 406.13
0938-0086 | 420.200-420.206, 455.100-455.106
0938-0101 | 430.30
0938-0102 | 413.20, 413.24
0938-0107 | 413.20, 413.24
0938-0146 | 431.800-431.865
0938-0147 | 431.800-431.865, 493.1405, 493.1411, 493.1417, 493.1423, 493.1443, 493.1449, 493.1455
0938-0151 | 493.1461, 493.1469, 493.1483, 493.1489
0938-0155 | 405.2470
0938-0170 | 493.1269-493.1285
0938-0193 | 430.10-430.20, 440.167
0938-0202 | 413.17, 413.20
0938-0214 | 411.25, 489.2, 489.20
0938-0236 | 413.20, 413.24
0938-0242 | 442.30, 488.26
0938-0245 | 407.10, 407.11
0938-0246 | 431.800-431.865
0938-0251 | 406.7
0938-0266 | 416.41, 416.47, 416.48, 416.83
0938-0267 | 410.65, 485.56, 485.58, 485.60, 485.64, 485.66
0938-0269 | 412.116, 412.632, 413.64, 413.350, 484.245
0938-0270 | 405.376
0938-0272 | 440.180, 441.300-441.305
0938-0273 | 485.701-485.729
0938-0279 | 424.5
0938-0287 | 447.31
0938-0296 | 413.170, 413.184
0938-0301 | 413.20, 413.24
0938-0302 | 418.22, 418.24, 418.28, 418.56, 418.58, 418.70, 418.74, 418.83, 418.96, 418.100
0938-0313 | 489.11, 489.20
0938-0328 | 482.12, 482.13, 482.21, 482.22, 482.27, 482.30, 482.41, 482.43, 482.45, 482.53, 482.56, 482.57, 482.60, 482.61, 482.62, 482.66, 485.618, 485.631
0938-0334 | 491.9, 491.10
0938-0338 | 486.104, 486.106, 486.110
0938-0354 | 441.60
0938-0355 | 442.30, 488.26
0938-0357 | 409.40-409.50, 410.36, 410.170, 411.4-411.15, 421.100, 424.22, 484.18, 489.21
0938-0358 | 412.20-412.30
0938-0359 | 412.40-412.52
0938-0360 | 488.60
0938-0365 | 484.10, 484.11, 484.12, 484.14, 484.16, 484.18, 484.20, 484.36, 484.48, 484.52
0938-0372 | 414.330
0938-0378 | 482.60-482.62
0938-0379 | 442.30, 488.26
0938-0382 | 442.30, 488.26
0938-0386 | 405.2100-405.2171
0938-0391 | 488.18, 488.26, 488.28
0938-0426 | 476.104, 476.105, 476.116, 476.134
0938-0429 | 447.53
0938-0443 | 473.18, 473.34, 473.36, 473.42
0938-0444 | 1004.40, 1004.50, 1004.60, 1004.70
0938-0445 | 412.44, 412.46, 431.630, 456.654, 466.71, 466.73, 466.74, 466.78
0938-0447 | 405.2133
0938-0448 | 405.2133, 45 CFR 5, 5b; 20 CFR parts 401, 422E
0938-0449 | 440.180, 441.300-441.310
0938-0454 | 424.20
0938-0456 | 412.105
0938-0463 | 413.20, 413.24, 413.106
0938-0467 | 431.17, 431.306, 435.910, 435.920, 435.940-435.960
0938-0469 | 417.126, 422.502, 422.516
0938-0470 | 417.143, 417.800-417.840, 422.6
0938-0477 | 412.92
0938-0484 | 424.123
0938-0501 | 406.15
0938-0502 | 433.138
0938-0512 | 486.304, 486.306, 486.307
0938-0526 | 475.102, 475.103, 475.104, 475.105, 475.106
0938-0534 | 410.38, 424.5
0938-0544 | 493.1-493.2001
0938-0564 | 411.32
0938-0565 | 411.20-411.206
0938-0566 | 411.404, 411.406, 411.408
0938-0573 | 412.230, 412.256
0938-0578 | 447.534
0938-0581 | 493.1-493.2001
0938-0599 | 493.1-493.2001
0938-0600 | 405.371, 405.378, 413.20
0938-0610 | 417.436, 417.801, 422.128, 430.12, 431.20, 431.107, 434.28, 483.10, 484.10, 489.102
0938-0612 | 493.801, 493.803, 493.1232, 493.1233, 493.1234, 493.1235, 493.1236, 493.1239, 493.1241, 493.1242, 493.1249, 493.1251, 493.1252, 493.1253, 493.1254, 493.1255, 493.1256, 493.1261, 493.1262, 493.1263, 493.1269, 493.1273, 493.1274, 493.1278, 493.1283, 493.1289, 493.1291, 493.1299
0938-0618 | 433.68, 433.74, 447.272
0938-0653 | 493.1771, 493.1773, 493.1777
0938-0657 | 405.2110, 405.2112
0938-0658 | 405.2110, 405.2112
0938-0667 | 482.12, 488.18, 489.20, 489.24
0938-0679 | 410.38
0938-0685 | 410.32, 410.71, 413.17, 424.57, 424.73, 424.80, 440.30, 484.12
0938-0686 | 493.551-493.557
0938-0688 | 486.304, 486.306, 486.307, 486.310, 486.316, 486.318, 486.325
0938-0690 | 488.4-488.9, 488.201
0938-0691 | 412.106
0938-0692 | 466.78, 489.20, 489.27
0938-0701 | 422.152
0938-0702 | 45 CFR 146.111, 146.115, 146.117, 146.150, 146.152, 146.160, 146.180
0938-0703 | 45 CFR 148.120, 148.124, 148.126, 148.128
0938-0714 | 411.370-411.389
0938-0717 | 424.57
0938-0721 | 410.33
0938-0723 | 421.300-421.318
0938-0730 | 405.410, 405.430, 405.435, 405.440, 405.445, 405.455, 410.61, 415.110, 424.24
0938-0732 | 417.126, 417.470
0938-0734 | 45 CFR 5b
0938-0739 | 413.337, 413.343, 424.32, 483.20
0938-0742 | 422.300-422.312
0938-0749 | 424.57
0938-0753 | 422.000-422.700
0938-0754 | 441.151, 441.152
0938-0758 | 413.20, 413.24
0938-0760 | Part 484 subpart E, 484.55
0938-0761 | 484.11, 484.20
0938-0763 | 422.1-422.10, 422.50-422.80, 422.100-422.132, 422.300-422.312, 422.400-422.404, 422.560-422.622
0938-0770 | 410.2
0938-0778 | 422.64, 422.111
0938-0779 | 417.126, 417.470, 422.64, 422.210
0938-0781 | 411.404-411.406, 484.10
0938-0786 | 438.352, 438.360, 438.362, 438.364
0938-0787 | 406.28, 407.27
0938-0790 | 460.12, 460.22, 460.26, 460.30, 460.32, 460.52, 460.60, 460.70, 460.71, 460.72, 460.74, 460.80, 460.82, 460.98, 460.100, 460.102, 460.104, 460.106, 460.110, 460.112, 460.116, 460.118, 460.120, 460.122, 460.124, 460.132, 460.152, 460.154, 460.156, 460.160, 460.164, 460.168, 460.172, 460.190, 460.196, 460.200, 460.202, 460.204, 460.208, 460.210
0938-0792 | 491.8, 491.11
0938-0798 | 413.24, 413.65, 419.42
0938-0802 | 419.43
0938-0818 | 410.141, 410.142, 410.143, 410.144, 410.145, 410.146, 414.63
0938-0829 | 422.568
0938-0832 | Parts 489 and 491
0938-0833 | 483.350-483.376
0938-0841 | 431.636, 457.50, 457.60, 457.70, 457.340, 457.350, 457.431, 457.440, 457.525, 457.560, 457.570, 457.740, 457.750, 457.810, 457.940, 457.945, 457.965, 457.985, 457.1005, 457.1015, 457.1180
0938-0842 | 412.23, 412.604, 412.606, 412.608, 412.610, 412.614, 412.618, 412.626, 413.64
0938-0846 | 411.352-411.361
0938-0857 | Part 419
0938-0860 | Part 419
0938-0866 | 45 CFR part 162
0938-0872 | 413.337, 483.20
0938-0873 | 422.152
0938-0874 | 45 CFR parts 160 and 162
0938-0878 | Part 422 subpart F & G
0938-0883 | 45 CFR parts 160 and 164
0938-0884 | 405.940
0938-0887 | 45 CFR 148.316, 148.318, 148.320
0938-0897 | 412.22, 412.533
0938-0907 | 412.230, 412.304, 413.65
0938-0910 | 422.620, 422.624, 422.626
0938-0911 | 426.400, 426.500
0938-0916 | 483.16
0938-0920 | 438.6, 438.8, 438.10, 438.12, 438.50, 438.56, 438.102, 438.114, 438.202, 438.206, 438.207, 438.240, 438.242, 438.402, 438.404, 438.406, 438.408, 438.410, 438.414, 438.416, 438.710, 438.722, 438.724, 438.810
0938-0921 | 414.804
0938-0931 | 45 CFR part 142.408, 162.408, and 162.406
0938-0933 | 438.50
0938-0934 | 403.766
0938-0936 | 423
0938-0940 | 484 and 488
0938-0944 | 422.250, 422.252, 422.254, 422.256, 422.258, 422.262, 422.264, 422.266, 422.270, 422.300, 422.304, 422.306, 422.308, 422.310, 422.312, 422.314, 422.316, 422.318, 422.320, 422.322, 422.324, 423.251, 423.258, 423.265, 423.272, 423.279, 423.286, 423.293, 423.301, 423.308, 423.315, 423.322, 423.329, 423.336, 423.343, 423.346, 423.350

Addendum VIII—Medicare-Approved Carotid Stent Facilities (January Through March 2005)

On March 17, 2005, we issued our decision memorandum on carotid artery stenting. We determined that carotid artery stenting with embolic protection is reasonable and necessary only if performed in facilities that have been determined to be competent in performing the evaluation, procedure, and follow-up necessary to ensure optimal patient outcomes. We have created a list of minimum standards for facilities modeled in part on professional society statements on competency. All facilities must at least meet our standards in order to receive coverage for carotid artery stenting for high risk patients.

Facility | Provider No. | Effective date
1. Advocate Christ Medical Center, 4440 West 95th Street, Oak Lawn, IL 60453 | 140208 | 05/03/2005
2. Advocate Lutheran General Hospital, 1775 Dempster Street, Park Ridge, IL 60068 | 140223 | 05/05/2005
3. Aiken Regional Medical Centers, 302 University Parkway, P.O. Drawer 1117, Aiken, SC 29802-1117 | 420082 | 05/10/2005
4. Akron General Medical Center, 400 Wabash Avenue, Akron, OH 44266 | 360027 | 05/16/2005
5. Albany Medical Center Hospital, 43 New Scotland Avenue, Albany, NY 12208 | 330013 | 05/16/2005
6. Alexian Brothers Medical Center, 800 W. Biesterfied Road, Elk Grove Village, IL 60007 | 140258 | 04/18/2005
7. Allegheny General Hospital, 320 East North Avenue, Pittsburgh, PA 15212-4772 | 390050 | 05/11/2005
8. Arizona Heart Hospital, 1930 E. Thomas Road, Phoenix, AZ 85016 | 030102 | 04/18/2005
9. Aspirus Wausau Hospital, Inc, 333 Pine Ridge Boulevard, Wausau, WI 54401 | 520030 | 05/10/2005
10. Aurora Sinai Medical Center, 945 N. 12th Street, Milwaukee, WI 53201 | 520064 | 05/03/2005
11. Avera Heart Hospital of South Dakota, 4500 West 69th Street, Sioux Falls, SD 57108 | 430095 | 05/05/2005
12. Bakersfield Heart Hospital, 3001 Sillect Avenue, Bakersfield, CA 93308 | 050724 | 05/25/2005
13. Bakersfield Memorial Hospital, 420 34th Street, Bakersfield, CA 93301 | 050036 | 05/23/2005
14. The Baldwin County Eastern Shore Health Care Authority, d/b/a Thomas Hospital, 750 Morphy Avenue, Fairhope, AL 36532 | 010100 | 04/07/2005
15. Banner Good Samaritan Medical Center, 1111 E. McDowell Road, Phoenix, AZ 85006 | 030002 | 05/23/2005
16. Baptist Hospital East, 4000 Kresge Way, Louisville, KY 40207 | 180130 | 04/12/2005
17. Baptist Hospital of East Tennessee, 137 Blount Avenue, Knoxville, TN 37920 | 440019 | 04/12/2005
18. Baptist Hospital-Pensacola, 1000 West Moreno Street, Post Office Box 17500, Pensacola, FL 32522-7500 | 100093 | 04/27/2005
19. Baptist Medical Center, 1225 North State Street, Jackson, MS 39202 | 250102 | 05/05/2005
20. Baptist Medical Center South, 2105 East South Boulevard, P.O. Box 11010, Montgomery, AL 36111-0010 | 010023 | 04/20/2005
21. Baptist Memorial Hospital, 6019 Walnut Grove Road, Memphis, TN 38120 | 440048 | 04/18/2005
22. Baptist Memorial Hospital-DeSoto, 7601 Southcrest Parkway, Southaven, MS 38671 | 250141 | 05/05/2005
23. Baptist Montclair Medical Center, 800 Montclair Road, Birmingham, AL 35213 | 010104 | 04/26/2005
24. Barnes-Jewish Hospital, One Barnes-Jewish Hospital Plaza, St. Louis, MO 63110 | 260032 | 05/05/2005
25. Bay Medical Center, 615 North Bonita Avenue, Panama City, FL 32401 | 100026 | 05/23/2005
26. Baystate Medical Center, 759 Chestnut Street, Springfield, MA 01199 | 220077 | 05/16/2005
27. Benefis Healthcare, 1101 26th Street South, Great Falls, MT 59405 | 270012 | 05/26/2005
28. Bethesda Hospital, 10500 Montgomery Road, Cincinnati, OH 45242-9508 | 360179 | 05/05/2005
29. Blanchard Valley Regional Health Center, 145 West Wallace Street, Findlay, OH 45840 | 360095 | 05/26/2005
30. Borgess Medical Center, 1521 Gull Road, Kalamazoo, MI 49048 | 020117 | 04/12/2005
31. Bon Secours St. Mary's Hospital, 5801 Bremo Road, Richmond, VA 23226 | 490059 | 04/01/2005
32. Brigham and Women's Hospital, 75 Francis Street, Boston, MA 02115 | 220110 | 05/16/2005
33. Caritas St. Elizabeth's Medical Center, 736 Cambridge Street, Boston, MA 02135-2997 | 220036 | 04/26/2005
34. Cascade Healthcare Community, Dba: St Charles Medical Center Bend, 2500 NE. Neff Road, Bend, OR 97701 | 380040 | 05/03/2005
35. Central Baptist Hospital, 1740 Nicholasville Road, Lexington, KY 40503 | 180103 | 04/27/2005
36. Central Dupage Hospital, 25 North Winfield Road, Winfield, IL 60190 | 140242 | 05/26/2005
37. Central Georgia Health Systems, dba The Medical Center of Central Georgia, 777 Hemlock Street, Macon, GA 31208 | 110107 | 05/11/2005
38. Charleston Area Medical Center, 3200 MacCorkle Avenue, SE, Charleston, WV 25304 | 510022 | 04/27/2005
39. Charlotte Regional Medical Center, 809 East Marion Avenue, Punta Gorda, FL 33950 | 100047 | 05/11/2005
40. [The] Christ Hospital, 2139 Auburn Avenue, Cincinnati, OH 45219 | 360163 | 05/26/2005
41. Christiana Care Health Services, 4755 Ogletown-Stanton Road, P.O. Box 6001, Newark, DE 19718-6001 | 080001 | 05/23/2005
42. CHRISTUS St. Frances Cabrini Hospital, 3330 Masonic Drive, Alexandria, LA 71301 | 190019 | 04/18/2005
43. CJW Medical Center, Chippenham Hospital, 7101 Jahnke Road, Richmond, VA 23225 | 490112 | 05/03/2005
44. Clarian Health Partners, Inc, I-65 at 21st Street, P.O. Box 1367, Indianapolis, IN 46206-1367 | 150056 | 05/23/2005
45. Clear Lake Regional Medical Center, 500 Medical Center Blvd, Webster, TX 77598 | 450617 | 04/01/2005
46. The Cleveland Clinic Foundation, 9500 Euclid Avenue, Cleveland, OH 44195 | 360180 | 04/12/2005
47. College Station Medical Center, 1604 Rock Prairie Road, College Station, TX 77845 | 450299 | 05/25/2005
48. Community Health Partners, 3700 Kolbe Road, Lorain, OH 44053-1697 | 360172 | 05/23/2005
49. Dartmouth Hitchcock Medical Center, One Medical Center Drive, Lebanon, NH 03756 | 300003 | 04/27/2005
50. Deaconess Medical Center, PO Box 248, Spokane, WA 99210-0248 | 500044 | 05/10/2005
51. Doylestown Hospital, 595 West State Street, Doylestown, PA 18901 | 390203 | 04/27/2005
52. Eastern Maine Medical Center, 489 State Street, P.O. Box 404, Bangor, ME 04402-404 | 200033 | 04/18/2005
53. El Camino Hospital, 2500 Grant Road, P.O. Box 7025, Mountain View, CA 94039-7025 | 050308 | 05/10/2005
54. Eliza Coffee Memorial Hospital, P.O. Box 818, Florence, AL 35631 | 010006 | 05/05/2005
55. EMH Regional Medical Center, 630 East River Street, Elyria, OH 44035 | 360145 | 05/23/2005
56. Emory Crawford Long Hospital, 550 Peachtree Street, NE, Atlanta, GA 30308-2225 | 110078 | 05/16/2005
57. Emory University Hospital, 1364 Clifton Road, NE, Atlanta, GA 30322 | 110010 | 04/04/2005
58. Erlanger Health System, 975 East Third Street, Chattanooga, TN 37403 | 440104 | 05/23/2005
59. Evanston Hospital, 2650 Ridge Avenue, Evanston, IL 60201 | 140010 | 03/30/2005
60. Exempla St. Joseph Hospital, 1835 Franklin Street, Denver, CO 80218-1191 | 060009 | 05/10/2005
61. Fletcher Allen Health Care, Medical Center Campus, 111 Colchester Avenue, Burlington, VT 05401-1473 | 470003 | 05/26/2005
62. Forsyth Medical Center, 3333 Silas Creek Parkway, Winston Salem, NC 27103 | 340014 | 04/20/2005
63. Fort Sanders Regional Medical Center, 1901 W. Clinch Avenue, Knoxville, TN 37916-2398 | 440125 | 05/11/2005
64. Fort Walton Beach Medical Center, 1000 Mar Walt Drive, Fort Walton Beach, FL 32547 | 100223 | 04/14/2005
65. Fresno Heart Hospital, 15 E. Audubon Drive, Fresno, CA 93720 | 050732 | 04/26/2005
66. Fountain Valley Regional Hospital and Medical Center, 17100 Euclid Street, P.O. Box 8010, Fountain Valley, CA 92708 | 050570 | 04/26/2005
67. Galichia Heart Hospital, 2610 N. Woodlawn, Wichita, KS 67220-2729 | 170192 | 05/16/2005
68. Geisinger Medical Center, 100 North Academy Avenue, Danville, PA 17822 | 390006 | 05/05/2005
69. Geisinger Wyoming Valley Medical Center, 1000 East Mountain Boulevard, Wilkes-Barre, PA 18711 | 390270 | 05/05/2005
70. Good Samaritan Hospital, 1225 Wilshire Boulevard, Los Angeles, CA 90017 | 050471 | 04/12/2005
71. Good Samaritan Hospital, 2425 Samaritan Drive, San Jose, CA 95124 | 050380 | 04/12/2005
72. Good Samaritan Hospital, 255 Lafayette Avenue, Suffern, NY 10901 | 330158 | 04/27/2005
73. Good Samaritan Hospital, 2222 Philadelphia Drive, Dayton, OH 45406-1891 | 360052 | 05/25/2005
74. Good Samaritan Hospital, 375 Dixmyth Avenue, Cincinnati, OH 45220-489 | 360134 | 04/18/2005
75. Grandview Hospital and Medical Center, 405 Grand Avenue, Dayton, OH 45405 | 360133 | 05/05/2005
76. Greater Baltimore Medical Center, 6701 N. Charles Street, Baltimore, MD 21204 | 210044 | 05/11/2005
77. Hackensack University Medical Center, 30 Prospect Avenue, Hackensack, NJ 07601 | 310001 | 04/27/2005
78. Hahnemann University Hospital/Tenet, 230 N. Broad Street, Mailstop 119, Philadelphia, PA 19102-1192 | 390290 | 05/10/2005
79. Hamot Medical Center, 201 State Street, Erie, PA 16550 | 390063 | 05/05/2005
80. Harbor-UCLA Medical Center, 1000 West Carson Street, Torrance, CA 90502 | 050376 | 04/12/2005
81. Harper-Hutzel Hospital, 3990 John R Street, Detroit, MI 48201 | 230104 | 04/19/2005
82. Harris Methodist Fort Worth Hospital, 1301 Pennsylvania Avenue, Fort Worth, TX 76104 | 450135 | 04/20/2005
83. Harris Methodist HEB, 1600 Hospital Parkway, Bedford, TX 76022 | 450639 | 05/16/2005
84. Hartford Hospital, 80 Seymour Street, P.O. Box 5037, Hartford, CT 06102-5037 | 070025 | 05/23/2005
85. Hays Medical Center, 2220 Canterbury Road, Hays, KS 67601 | 170013 | 05/23/2005
86. Hennepin County Medical Center, 701 Park Avenue, Minneapolis, MN 55415-1829 | 240004 | 05/16/2005
87. Hialeah Hospital, 651 East 25th Street, Hialeah, FL 33013 | 100053 | 05/05/2005
88. High Point Regional Health System, 601 North Elm Street, P.O. Box HP-5, High Point, NC 27261 | 340004 | 05/16/2005
89. Hillcrest Hospital, 6780 Mayfield Road, Mayfield Hts., OH 44124 | 360230 | 05/16/2005
90. Hoag Memorial Hospital Presbyterian, One Hoag Drive, Newport Beach, CA 92663 | 050224 | 04/04/2005
91. Hospital of the University of Pennsylvania, 3400 Spruce Street, Philadelphia, PA 19104 | 390111 | 05/23/2005
92. Hunterdon Medical Center, 2100 Wescott Drive, Flemington, NJ 08822 | 310005 | 04/12/2005
93. Huntington Hospital, 100 W. California Boulevard, P.O. Box 7013, Pasadena, CA 91109-7013 | 050438 | 05/05/2005
94. Iowa Methodist Medical Center, 1200 Pleasant Street, Des Moines, IA 50309 | 160082 | 04/18/2005
95. Irvine Regional Hospital & Medical Center, 16200 Sand Canyon Avenue, Irvine, CA 92618 | 050693 | 05/10/2005
96. Jewish Hospital, 200 Abraham Flexner Way, Louisville, KY 40202 | 180040 | 04/12/2005
97. John Muir Medical Center, 1601 Ygnacio Valley Road, Walnut Creek, CA 94598-3194 | 050180 | 05/10/2005
98. Jupiter Medical Center, 1210 S. Old Dixie Hwy, Jupiter, FL 33458 | 100253 | 04/20/2005
99. Kaleida Health, Millard Fillmore Hospital, 3 Gates Circle, Buffalo, NY 14209 | 330005 | 05/03/2005
100. Kansas Heart Hospital, 3601 N. Webb Road, Wichita, KS 67226 | 170186 | 05/23/2005
101. Kent Hospital, 455 Toll Gate Road, Warwick, RI 02886 | 410009 | 04/20/2005
102. Kettering Medical Center, 3535 Southern Blvd, Kettering, OH 45429 | 360079 | 05/05/2005
103. King's Daughters Medical Center, 2201 Lexington Avenue, Ashland, KY 41101 | 180009 | 05/23/2005
104. Lakeland Hospital, 1234 Napier Avenue, St. Joseph, Mi 49085 | 230021 | 04/04/2005
105. Lakeland Regional Medical Center, 1324 Lakeland Hills Boulevard, Lakeland, FL 33805 | 100157 | 05/25/2005
106. Lakeview Regional Medical Center, 95 E. Fairway Drive, Covington, LA 70433 | 190177 | 05/03/2005
107. Lawnwood Medical Center, Inc, d/b/a Lawnwood Regional Medical Center and Heart Institute, 1700 South 23rd Street, Fort Pierce, FL 34950 | 100246 | 04/20/2005
108. LDS Hospital, 8th Avenue and C Street, Salt Lake City, UT 84143 | 460010 | 04/20/2005
109. Lee's Summit Hospital, 530 NW. Murray Road, Lee's Summit, MO 64081 | 260190 | 05/17/2005
110. Lenox Hill Hospital, 100 East 77 Street, New York, NY 10021 | 330119 | 05/16/2005
111. Los Alamitos Medical Center, 3751 Katella Avenue, Los Alamitos, CA 90720 | 050551 | 05/23/2005
112. Los Robles Hospital and Medical Center, 215 West Janss Road, Thousand Oaks, CA 91360 | 050549 | 05/16/2005
113. Louisiana Heart Hospital, 64030 Louisiana Highway 434, Lacombe, LA 70445 | 190250 | 04/01/2005
114. Lourdes Vascular Center, Lourdes Hospital, 1530 Lone Oak Road, Paducah, KY 42003 | 180102 | 03/30/2005
115. Loyola University Medical Center, 2160 South First Avenue, Maywood, IL 60153 | 140276 | 05/05/2005
116. Lutheran Hospital of Indiana, 7950 West Jefferson Boulevard, Fort Wayne, IN 46804 | 150017 | 04/18/2005
117. Maricopa Integrated Health System, Maricopa Medical Center, Cardiac Catheterization Laboratory, 2601 E. Roosevelt, Phoenix, AZ 85008 | 032595 | 05/23/2005
118. Martha Jefferson Hospital, 459 Locust Avenue, Charlottesville, VA 22902 | 490077 | 04/07/2005
119. Mary Greeley Medical Center, 1111 Duff Avenue, Ames, IA 50010 | 160030 | 03/30/2005
120. Massachusetts General Hospital, 55 Fruit Street, Boston, MA 02114 | 220071 | 05/03/2005
121. Mayo Clinic Hospital, 5777 East Mayo Boulevard, Phoenix, AZ 85054 | 030103 | 05/23/2005
122. Medical Center of Plano, 3901 West 15th Street, Plano, TX 75075 | 450651 | 05/16/2005
123. Medical College of Ohio, 3000 Arlington Avenue, Toledo, OH 43614 | 360048 | 04/27/2005
124. Medical University of South Carolina Hospital Authority, 169 Ashley Avenue, PO Box 250347, Charleston, SC 29425 | 420004 | 05/26/2005
125. Memorial Hospital Jacksonville, 3625 University Boulevard, South, Jacksonville, FL 32216 | 100179 | 04/27/2005
126. Memorial Medical Center, 2700 Napoleon Ave, New Orleans, LA 70115 | 190135 | 05/16/2005
127. Mercy Health Center, 4300 West Memorial Road, Oklahoma City, OK 73120-8304 | 370013 | 04/12/2005
128. Mercy Hospital, 500 E. Market Street, Iowa City, IA 52245 | 160029 | 05/05/2005
129. Mercy Hospital Fairfield, 3000 Mack Road, Fairfield, OH 45014 | 360056 | 05/17/2005
130. Mercy Hospital and Medical Center, 2525 South Michigan Avenue, Chicago, IL 60616 | 140158 | 05/05/2005
131. Mercy Medical Center, 701 10th Street SE, Cedar Rapids, IA 52403 | 160079 | 04/07/2005
132. Mercy Medical Center, 1111 6th Avenue, Des Moines, IA 50314 | 160083 | 04/12/2005
133. Mercy Medical Center, 301 St. Paul Place, Baltimore, MD 21202 | 210008 | 05/25/2005
134. Methodist Hospital, 300 West Huntington Drive, P.O. Box 60016, Arcadia, CA 91066-6016 | 050238 | 04/12/2005
135. Methodist Medical Center of Oak Ridge, 990 Oak Ridge Turnpike, Oak Ridge, TN 37830 | 440034 | 05/03/2005
136. Mid Michigan Medical Center-Midland, 4005 Orchard Drive, Midland, MI 48670 | 230222 | 05/10/2005
137. Missouri Baptist Medical Center, 3015 N. Ballas Road, St. Louis, MO 63131 | 260108 | 05/23/2005
138. Morton Plant Hospital, 300 Pinellas Street, Clearwater, FL 33756 | 100127 | 05/16/2005
139. Moses H. Cone Memorial Hospital, 1200 N. Elm Street, Greensboro, NC 27401 | 340091 | 04/18/2005
140. Mount Carmel St. Ann's Hospital, 500 South Cleveland Avenue, Westerville, OH 43081-8998 | 360012 | 05/25/2005
141. Mount Diablo Medical Center, 2540 East Street, PO Box 4110, Concord, CA 94524-4110 | 050496 | 05/10/2005
142. [The] Mount Sinai Hospital, 1 Gustave L. Levy Place, New York, NY 10029 | 330024 | 05/26/2005
143. Mount Sinai Medical Center, 4300 Alton Road, Miami Beach, FL 33140 | 100034 | 04/07/2005
144. Mountain View Regional Medical Center, 4311 E. Lohman Avenue, Las Cruces, NM 88011 | 320085 | 04/26/2005
145. Munroe Regional Medical Center, 1500 SW. 1st Avenue, Ocala, FL 34474 | 100062 | 05/23/2005
146. New York Presbyterian Hospital, 161 Ft. Washington Avenue, HIP1412, New York, NY 10032 | 330101 | 05/05/2005
147. Norman Regional Hospital, 901 North Porter, Box 1308, Norman, OK 73070-1308 | 370008 | 05/23/2005
148. North Austin Medical Center, 12221 MoPac Expressway North, Austin, TX 78758 | 450809 | 04/12/2005
149. North Florida Regional Medical Center, 6500 Newberry Road, Gainesville, FL 32605 | 100204 | 04/19/2005
150. North Memorial Health Care, 3300 Oakdale Avenue North, Robbinsdale, MN 55422 | 240001 | 05/26/2005
151. North Oakland Medical Centers, 461 W. Huron Street, Pontiac, MI 48341-1651 | 230013 | 05/03/2005
152. Northeast Methodist Hospital, 12412 Judson Road, Live Oak, TX 78233 | 450388 | 05/11/2005
153. Northwestern Memorial Hospital, 251 East Huron Street, Chicago, IL 60611 | 140281 | 04/26/2005
154. Norton Healthcare, P.O. Box 35070, Louisville, KY 40232-5070 | 180088 | 05/03/2005
155. Ochsner Clinic Foundation, Department of Cardiology, 1514 Jefferson Highway, New Orleans, LA 70121-2483 | 190036 | 04/12/2005
156. Ohio State University, University Medical Center, 452 West 10th Avenue, Columbus, OH 43210 | 360085 | 05/05/2005
157. Oklahoma Heart Hospital, 4050 West Memorial Road, Oklahoma City, OK 73120 | 370215 | 05/23/2005
158. Orlando Regional Healthcare System, Inc, 1414 Kuhl Avenue, Orlando, FL 32806 | 100006 | 05/23/2005
159. [The] Ortenzio Heart Center and Holy Spirit, 503 North 21st Street, Camp Hill, PA 17011-2288 | 390004 | 04/27/2005
160. OSF Saint Francis Medical Center, 530 NE. Glen Oak Avenue, Peoria, IL 61637 | 140067 | 04/27/2005
161. Our Lady of Bellefonte Hospital, St. Christopher Drive, Ashland, KY 41101 | 180036 | 05/26/2005
162. Our Lady of Lourdes Medical Center, 1600 Haddon Avenue, Camden, NJ 08103 | 310029 | 05/05/2005
163. Our Lady of Lourdes Regional Medical Center, 611 St. Landry Street, Lafayette, LA 70506 | 190102 | 05/03/2005
164. Palomar Medical Center, 555 East Valley Parkway, Escondido, CA 92025 | 050115 | 05/10/2005
165. Parkwest Medical Center, 9352 Park West Boulevard, Knoxville, TN 37923 | 440173 | 05/05/2005
166. Parkview Hospital, 2200 Randallia Drive, Fort Wayne, IN 46805 | 150021 | 05/11/2005
167. Parma Community General Hospital, 7007 Powers Boulevard, Parma, OH 44129-5495 | 360041 | 05/05/2005
168. Phoenix Baptist Hospital, Cardiac Catheterization Laboratory/Interventional Radiology Suite, 2000 West Bethany Home Road, Phoenix, AZ 85015 | 030030 | 04/01/2005
169. Phoenix Memorial Hospital, Cardiac Catheterization Laboratory/Interventional Radiology Suite, 1201 South 7th Avenue, Phoenix, AZ 85007 | 030106 | 05/16/2005
170. Pinnacle Health Hospitals, 111 South Front Street, Harrisburg, PA 17101 | 390067 | 05/23/2005
171. Plaza Medical Center of Fort Worth, 900 Eighth Avenue, Fort Worth, TX 76104 | 450672 | 05/23/2005
172. Pomerado Hospital, 15615 Pomerado Road, Poway, CA 92064 | 050636 | 05/10/2005
173. Presbyterian Hospital of Dallas, 8200 Walnut Hill Lane, Dallas, TX 75231-4496 | 450462 | 05/10/2005
174. Princeton Baptist Medical Center, 701 Princeton Avenue, SW, Birmingham, AL 35211-1399 | 010103 | 04/12/2005
175. Provena Saint Joseph Hospital, 77 North Airlite Street, Elgin, IL 60123-4912 | 140217 | 05/11/2005
176. Providence Portland Medical Center, 4805 Northeast Glisan Street, Portland, OR 97213-2967 | 380061 | 05/16/2005
177. Providence St. Vincent Medical Center, 9205 S.W. Barnes Road, Portland, OR 97225 | 380004 | 05/16/2005
178. Rapid City Regional Hospital, 353 Fairmont Boulevard, Rapid City, SD 57701 | 430077 | 05/26/2005
179. Rapides Regional Medical Center, Box 30101, 211 Fourth Street, Alexandria, LA 71301-8454 | 190026 | 05/23/2005
180. Research Medical Center, 2316 East Meyer Boulevard, Kansas City, MO 64132 | 260027 | 05/23/2005
181. Resurrection Medical Center, 7435 West Talcott, Chicago, Illinois 60631 | 140117 | 04/12/2005
182. Riverside Methodist Hospital, 3535 Olentangy River Road, Columbus, OH 43214 | 360006 | 04/20/2005
183. Robert Packer Hospital, One Guthrie Square, Sayre, PA 18840-1698 | 390079 | 04/18/2005
184. Rogue Valley Medical Center, 2825 East Barnett Road, Medford, OR 97504 | 380018 | 05/05/2005
185. Rush University Medical Center, 1725 West Harrison Street, Suite 364, Chicago, IL 60612-3824 | 140119 | 04/20/2005
186. Sacred Heart Health System, 5151 N. Ninth Avenue, P.O. Box 2700, Pensacola, FL 32513 | 100025 | 05/05/2005
187. Sacred Heart Medical Center, Oregon Heart & Vascular Institute, 1255 Hilyard Street, P.O. Box 10905, Eugene, OR 97440 | 380033 | 05/26/2005
188. Saint Joseph Health Center, 1000 Carondelet Drive, Kansas City, MO 64114 | 260085 | 05/16/2005
189. Saint Joseph Medical Center, Twelfth and Walnut Streets, P.O. Box 316, Reading, PA 19603-316 | 390096 | 04/01/2005
190. Saint Louis University Hospital, 3635 Vista at Grand Boulevard, P.O. Box 15250, St. Louis, MO 63110 | 260105 | 05/17/2005
191. Saint Luke's Hospital of Kansas City, 4401 Wornall Road, Kansas City, MO 64111 | 260138 | 04/27/2005
192. Saint Raphael Healthcare System, 1450 Chapel Street, New Haven, CT 06511 | 070001 | 05/05/2005
193. Saints Memorial Medical Center, 1 Hospital Drive, Lowell, MA 01852-1389 | 220082 | 04/27/2005
194. Samaritan Hospital, 310 South Limestone Street, Lexington, KY 40508 | 180007 | 05/17/2005
195. Seton Medical Center, 1900 Sullivan Avenue, Daly City, CA 94015 | 050289 | 05/05/2005
196. Shady Grove Adventist Hospital, 9901 Medical Center Drive, Rockville, MD 20850 | 210057 | 04/20/2005
197. Shands Jacksonville Medical Center, 655 West Eighth Street, Jacksonville, FL 32209 | 100001 | 05/26/2005
198. Shawnee Mission Medical Center, 9100 W. 74th Street, Shawnee Mission, KS 66204 | 170104 | 05/16/2005
199. Sierra Medical Center, 1625 Medical Center Drive, El Paso, TX 79902 | 450668 | 05/16/2005
200. Sinai-Grace Hospital, 6071 W. Outer Drive, Detroit, MI 48235 | 230024 | 04/19/2005
201. Sioux Valley Hospital USD Medical Center, 1305 W. 18th Street, Sioux Falls, SD 57117-5039 | 430027 | 04/19/2005
202. Skyline Medical Center, 3441 Dickerson Pike, Nashville, TN 37207 | 440006 | 04/07/2005
203. South Austin Hospital, 901 W. Ben White, Austin, TX 78704 | 450713 | 04/12/2005
204. Southern Baptist Hospital of Florida, Inc., d/b/a Baptist Medical Center, 800 Prudential Drive, Jacksonville, FL 32207 | 100088 | 05/05/2005
205. Southern Maryland Hospital Center, 7503 Surratts Road, Clinton, MD 20735 | 520054 | 05/26/2005
206. Southwest Washington Medical Center, P.O. Box 1600, Vancouver, WA 98668 | 500050 | 05/26/2005
207. Spectrum Health Hospital, 100 Michigan Street NE, Grand Rapids, MI 49503 | 230038 | 04/18/2005
208. SSM St. Joseph Health Center, 300 First Capitol Drive, St. Charles, MO 63301 | 260005 | 04/26/2005
209. St. Anthony's Hospital, 1200 7th Avenue North, St. Petersburg, FL 33705 | 100067 | 04/19/2005
210. St. Bernardine Medical Center, 2101 N. Waterman Avenue, San Bernardino, CA 92404-4836 | 050129 | 05/05/2005
211. St. David's Medical Center, 919 East 32nd Street 78705, P.O. Box 4039, Austin, TX 78765-4039 | 450431 | 05/05/2005
212. St. Elizabeth Medical Center, South Unit, 1 Medical Village Drive, Edgewood, KY 41017 | 180035 | 04/26/2005
213. St. Francis Hospital and Health Center, 12935 S. Gregory Street, Blue Island, IL 60406 | 140118 | 05/11/2005
214. St. Francis Hospital & Health Centers, 1600 Albany Street, Beech Grove, IN 46107 | 150033 | 04/01/2005
215. St. John Hospital and Medical Center, 22151 Moross Road, Detroit, MI 48236 | 230165 | 04/27/2005
216. St John's Hospital, 800 East Carpenter Street, Springfield, IL 62769 | 140053 | 05/10/2005
217. St. John's Regional Medical Center, 2727 McClelland Boulevard, Joplin, MO 64804-1694 | 260001 | 04/19/2005
218. St. John West Shore Hospital, 29000 Center Ridge Road, Westlake, OH 44145 | 360123 | 05/03/2005
219. St. Joseph Medical Center, Heart Institute, 7601 Osler Drive, Towson, MD 21204-7582 | 210007 | 05/17/2005
220. St. Joseph Mercy Hospital, 5301 E. Huron River Drive, P.O. Box 995, Ann Arbor, MI 48106 | 230156 | 05/16/2005
221. St. Joseph Regional Medical Center, 5000 West Chambers Street, Milwaukee, WI 53210-1688 | 520136 | 05/10/2005
222. St. Joseph's Medical Center, 1800 N. California Street, Stockton, CA 95204 | 050084 | 05/17/2005
223. St. Joseph's Mercy Health Center, 300 Werner Street, Hot Springs, AR 71903 | 040026 | 05/26/2005
224. St. Joseph's Wayne Hospital, 224 Hamburg Turnpike, Wayne, NJ 07470 | 310116 | 03/30/2005
225. St. Luke's, 915 East First Street, Duluth, MN 55805 | 240047 | 04/19/2005
226. St. Lukes Episcopal Hospital, 6720 Bertner Avenue, Houston, TX 77030 | 450193 | 03/30/2005
227. St. Luke's Hospital, 1026 A Avenue NE, P.O. Box 3026, Cedar Rapids, IA 52406-3026 | 160045 | 05/10/2005
228. St. Luke's Medical Center, 2900 W. Oklahoma Avenue, P.O. Box 2901, Milwaukee, WI 53201-2901 | 520138 | 04/18/2005
229. St. Luke's-Roosevelt Hospital Center, 1000 Tenth Avenue, New York, NY 10019 | 330046 | 05/23/2005
230. St. Mary's Hospital and Medical Center, 2635 North Seventh Street, P.O. Box 1628, Grand Junction, CO 81501 | 060023 | 04/20/2005
231. St Mary's Medical Center, 407 East Third Street, Duluth, MN 55805 | 240002 | 05/16/2005
232. St. Mary's Medical Center, 3700 Washington Avenue, Evansville, IN 47740-001 | 150100 | 05/17/2005
233. St. Patrick Hospital and Health Sciences Center, 500 West Broadway, Missoula, MT 59802 | 270014 | 04/12/2005
234. St. Thomas Hospital, 4220 Harding Road, Nashville, TN 37205 | 440082 | 04/19/2005
235. Strong Memorial Hospital, 601 Elmwood Avenue, Box 679, Rochester, NY 14642 | 330285 | 04/19/2005
236. Swedish American Hospital, 1401 East State Street, Rockford, IL 61104 | 140228 | 05/03/2005
237. Swedish Medical Center, 501 East Hampden Ave, Englewood, CO 80113 | 060034 | 05/16/2005
238. Swedish Medical Center-First Hill Campus, 747 Broadway, Seattle, WA 98122 | 500027 | 05/17/2005
239. Swedish Medical Center-Providence Campus, 747 Broadway, Seattle, WA 98122 | 500025 | 05/23/2005
240. Tallahassee Memorial, 1300 Miccosukee Road, Tallahassee, FL 32308 | 100135 | 05/16/2005
241. Terrebonne General Medical Center, 8166 Main Street, Houma, LA 70360 | 190008 | 04/20/2005
242. Texan Heart Hospital, 6700 IH-10 West, San Antonio, TX 78201 | 450878 | 05/26/2005
243. Town and Country Hospital, 6001 Webb Road, Tampa, FL 33615-3241 | 100255 | 05/05/2005
244. UC Davis Cardiac Cath Lab/UC Davis Medical Center, 2315 Stockton Boulevard, Sacramento, CA 95817 | 050599 | 04/19/2005
245. Union Hospital, 1606 North Seventh Street, Terre Haute, IN 47804-2780 | 150023 | 04/27/2005
246. Union Memorial Hospital, 201 East University Parkway, Baltimore, MD 21218-2895 | 210024 | 04/07/2005
247. United Regional Health Care System, Eleventh Street Campus, 1600 Eleventh Street, Wichita Falls, TX 76301 | 450010 | 05/16/2005
248. University of Alabama Hospital, 619 South 19th Street, Birmingham, AL 35233 | 010033 | 05/26/2005
249. University Health System, 1520 Cherokee Trail, Suite 200, Knoxville, TN 37920-2205 | 440015 | 05/26/2005
250. University Health System, 4502 Medical Drive, San Antonio, TX 78229 | 450213 | 04/27/2005
251. University of Kentucky Hospital, 800 Rose Street, Lexington, KY 40536-0293 | 180067 | 05/16/2005
252. University of Louisville Hospital, 530 South Jackson Street, Louisville, KY 40202 | 180141 | 05/05/2005
253. University of Pennsylvania Medical Center-Presbyterian, 39th and Market Streets, Philadelphia, PA 19104 | 390223 | 04/01/2005
254. UPMC Presbyterian Shadyside, 200 Lothrop Street, Pittsburgh, PA 15213 | 390164 | 05/03/2005
255. Utah Valley Regional Medical Center, 1034 North 500 West, Provo, Utah 84605 | 460001 | 05/26/2005
256. The Valley Hospital, 223 N. Van Dien Avenue, Ridgewood, NJ 07450-2736 | 310012 | 04/20/2005
257. Vassar Brothers Medical Center, 45 Reade Place, Poughkeepsie, NY 12601 | 330023 | 05/05/2005
258. Washoe Medical Center, 75 Pringle Way, Reno, NV 89502 | 290001 | 04/27/2005
259. Washington Hospital Center, 110 Irving Street, NW., Washington, DC 20010 | 090011 | 05/16/2005
260. Wellmont Holston Valley Medical Center, Holston Valley Vascular Institute, 130 W. Ravine Road, Kingsport, TN 37660 | 440017 | 05/16/2005
261. Wentworth-Douglass Hospital, 789 Central Avenue, Dover, NH 03820 | 300018 | 05/10/2005
262. West Allis Memorial Hospital, 8901 West Lincoln Avenue, West Allis, WI 53227 | 520139 | 05/26/2005
263. Westchester Medical Center, 95 Grasslands Road, Valhalla, NY 10595 | 330234 | 05/16/2005
264. Western Baptist Hospital, 2501 Kentucky Avenue, Paduach, KY 42003-3200 | 180104 | 05/05/2005
265. Western Medical Center-Santa Ana, 1001 North Tustin Avenue, Santa Ana, CA 92705 | 050746 | 05/25/2005
266. William Beaumont Hospital, 3601 W. 13 Mile Road, Royal Oak, MI 48073 | 230130 | 05/10/2005
267. Willis Knighton Bossier, 2400 Hospital Drive, Bossier City, LA 71111 | 190236 | 04/27/2005
268. Willis Knighton Medical Center, 2600 Greenwood Road, Shreveport, LA 71103 | 190111 | 04/27/2005
269. Winchester Medical Center, P.O. Box 3340, Winchester, VA 22604-2540 | 490005 | 05/16/2005
270. The Wisconsin Heart Hospital, LLC, 10000 West Blue Mound Road, Wauwatosa, WI 53226 | 520199 | 05/05/2005
271. Wyoming Valley Health Care System, 575 North River Street, Wilkes Barre, PA 18764 | 390137 | 04/26/2005
272. York Hospital, 15 Hospital Drive, York, ME 03909 | 200020 | 04/14/2005

[FR Doc. 05-12525 Filed 6-23-05; 8:45 am]

BILLING CODE 4120-01-P